DEPARTMENT OF COMMERCE

National Oceanic and Atmospheric Administration

50 CFR Parts 300 and 660

[Docket No. 231117-0273]

RIN 0648-BM28

Magnuson-Stevens Act Provisions; Fisheries Off West Coast States; Pacific Coast Groundfish Fishery; Pacific Coast Groundfish Fishery Management Plan; Amendment 32; Modifications to Non-Trawl Sector Area Management Measures

AGENCY: National Marine Fisheries Service (NMFS), National Oceanic and Atmospheric Administration (NOAA), Commerce.

ACTION: Final rule.

SUMMARY: This final rule implements regulations for Amendment 32 to the Pacific Coast Groundfish Fishery Management Plan. The regulations include a suite of changes to non-trawl sector area management measures seaward of California and Oregon. The purpose of Amendment 32 is to provide fishing access to healthy groundfish stocks for non-trawl groundfish fisheries and the directed commercial Pacific halibut fishery while still meeting the conservation objectives of the Pacific Coast Groundfish Fishery Management Plan. In addition, this final rule implements minor administrative revisions to the regulations to correct the name of the Cordell Bank Groundfish Conservation Area, amend the description of the Cordell Bank Groundfish Conservation Area, add new regulatory definitions for different types of fishing bait, and add new exemptions to Vessel Monitoring System reporting requirements.

DATES: Effective January 1, 2024.

ADDRESSES:

Electronic Access

Information relevant to Amendment 32, which includes an Environmental Assessment (EA), a Regulatory Impact Review, a Regulatory Flexibility Act analysis and a Magnuson-Stevens Fishery Conservation and Management Act (Magnuson-Stevens Act or MSA) analysis (collectively referred to hereafter as Analysis), are accessible via the internet at the NMFS West Coast Region website at: https://www.fisheries.noaa.gov/west-coast/laws-and-policies/west-coast-region-national-environmental-policy-act-documents.

Written comments regarding the burden-hour estimates or other aspects of the collection-of-information requirements contained in this final rule may be submitted to NMFS and to https://www.reginfo.gov/public/do/PRAMain. Find this particular information collection by selecting “Currently under 30-day Review—Open for Public Comments” or by using the search function.

FOR FURTHER INFORMATION CONTACT: Lynn Massey, phone: 562-900-2060, or email: Lynn.Massey@noaa.gov.

SUPPLEMENTARY INFORMATION: The Pacific Coast Groundfish fishery in the U.S. exclusive economic zone (EEZ, defined at 50 CFR 660.10) seaward of Washington, Oregon, and California is managed under the Pacific Coast Groundfish Fishery Management Plan (FMP). The Pacific Fishery Management Council (Council) developed the Pacific Coast Groundfish FMP pursuant to the Magnuson-Stevens Act (16 U.S.C. 1801 et seq.). The Secretary of Commerce approved the Pacific Coast Groundfish FMP and implemented the provisions of the plan through Federal regulations at 50 CFR part 660, subparts C through G. Species managed under the Pacific Coast Groundfish FMP include more than 90 species of roundfish, flatfish, rockfish, sharks, and skates.

This final rule implements regulations for Amendment 32 to the Pacific Coast Groundfish FMP (also referred to interchangeably as “this action”). Consistent with MSA Section 303(c)(1), the Council deemed the proposed regulations consistent with and necessary to implement Amendment 32 in a July 21, 2023 letter from Council Chairman Merrick Burden to Regional Administrator Jennifer Quan. The Notice of Availability for Amendment 32, which describes the specific changes being made to the FMP, was published on August 2, 2023 (88 FR 50830) and was open for public comment through October 1, 2023. The proposed rule for Amendment 32, which includes the regulations necessary for implementing Amendment 32, was published on August 30, 2023 (88 FR 59838), and was open for public comment through September 29, 2023.

In addition to implementing changes to the regulations at 50 CFR parts 300 and 660 to implement Amendment 32, this final rule also implements minor, clarifying and administrative revisions to the regulations in part 660. These administrative changes correct the name of the Cordell Bank Groundfish Conservation Area (Cordell Bank GCA), amend the description of the Cordell Bank GCA, add new regulatory definitions for different types of fishing bait, and add new exemptions to Vessel Monitoring System (VMS) reporting requirements.

Background

In the early 2000s, several types of groundfish conservation areas (GCAs), defined at § 660.11, were implemented (as part of FMP Amendment 16-3) to protect overfished groundfish species off the U.S. West Coast; this includes the coastwide Non-Trawl Rockfish Conservation Area (Non-Trawl RCA) (68 FR 908, January 7, 2003), and the Cowcod Conservation Areas (CCAs) (66 FR 2338, January 11, 2001) in the Southern California Bight. With the rebuilt status of almost all of these groundfish species (the exception being yelloweye rockfish, which is projected to rebuild by 2029), the Council has been prioritizing increased fishing access to these areas for groundfish non-trawl fisheries (i.e., the directed open access sector, the California recreational sector, the limited entry fixed gear (LEFG) sector, and vessels that use non-trawl gear under the Trawl Individual Fishing Quota (IFQ) Program). Amendment 32 and its implementing regulations included in this final rule provide additional fishing opportunity in these closures through a suite of modifications to GCA boundaries, gear specifications, and catch restrictions, while continuing to rebuild yelloweye rockfish and mitigate fishing impacts to sensitive habitats.

Revisions to Non-Trawl Rockfish Conservation Area Management Measures

Boundary Modifications

The Non-Trawl RCA is a coastwide, contiguous area bounded by the EEZ or specific latitude and longitude coordinates that approximate depth contours along the West Coast continental shelf and around select islands off Southern California. Non-Trawl RCA boundaries are not consistent along the coast; they vary by management area (i.e., the shoreward and seaward boundaries are shallower or deeper, depending on latitude). The Non-Trawl RCA prohibits almost all commercial non-tribal directed groundfish fishing with non-trawl gear, and also applies to the non-tribal directed commercial Pacific halibut fishery (see 50 CFR 300.63(e)(1)).

The seaward boundary of the Non-Trawl RCA approximates the 100 fathom (fm, 183 meters (m)) depth contour seaward of Oregon and the 100 (183 m) or 125 fm (229 m) depth contour seaward of California, depending on latitude (see Tables 2 North and South of subpart E and Tables 3 North and South to subpart F). The implementing regulations for Amendment 32, as included in this final rule, move the seaward boundary of the Non-Trawl RCA shoreward to the depth contour that approximates 75 fm (137 m) seaward of both Oregon and California, which opens up approximately 2,411 square miles (sq mi, 6,244 square kilometers (sq km)) to all non-trawl commercial groundfish sectors and the non-tribal directed commercial Pacific halibut fishery. Adjusting the Non-Trawl RCA boundary for both the commercial non-tribal directed groundfish and Pacific halibut fisheries reduces enforcement complexity and provides additional fishing opportunity. The Non-Trawl RCA boundaries in the Southern California Bight (south of 34°27′ N lat.) will not change, as the 75-100 fm (137-183 m) depth range is already open in this area.

Catch Restriction Modifications

The final rule for the 2023-24 Groundfish Harvest Specification and Management Measures action (87 FR 77007, December 16, 2022) authorized the use of two new hook-and-line gear configurations for use inside the Non-Trawl RCA by the directed open access sector as defined at § 660.11. These two new gear configurations included stationary vertical jig gear (see § 660.330(b)(3)(i)) and groundfish troll gear (see § 660.330(b)(3)(ii)). The implementing regulations for Amendment 32, as included in this final rule, allow vessels participating in the LEFG sector and vessels that use non-trawl gear under the Trawl IFQ program (i.e., “IFQ gear switchers”) to fish with these gear types under their respective catch limits rather than under open access trip limits. In other words, LEFG vessels can fish inside the Non-Trawl RCA pursuant to their respective trip limits listed in subpart E Tables 1 North and South, and IFQ gear switchers can fish inside the Non-Trawl RCA under their quota pounds. Vessels will be required to make an appropriate declaration (specified at § 660.13(d)) that corresponds to their respective sector and the chosen gear type (i.e., either stationary vertical jig gear or groundfish troll gear); only one declaration may be made on these fishing trips. On a fishing trip where any fishing occurs inside the Non-Trawl RCA, only one type of non-bottom contact gear is permitted to be carried on board, and no other fishing gear of any type can be carried on board or stowed during that trip. The vessel will be allowed to fish inside and outside the Non-Trawl RCA on the same fishing trip, provided a valid declaration report as required at § 660.13(d) is filed with NMFS' Office of Law Enforcement (OLE). Crossover provisions at § 660.60(h)(7)(ii) will not apply for the two Non-Trawl RCA gear types (i.e., non-bottom contact stationary vertical jig gear and groundfish troll gear). Access to these higher trip limits will increase fishing opportunity and provide operational flexibility for these vessels.

Gear Modifications

The two new hook-and-line gear configurations authorized as part of the 2023-24 Groundfish Harvest Specification and Management Measures action (87 FR 77007, December 16, 2022) were implemented along with a suite of gear specifications intended to minimize yelloweye rockfish bycatch and seabird interactions. For the stationary vertical jig gear, fishermen were required to have a minimum of 50 feet (15 m) between the bottom weight and the lowest fishing hook to ensure that fishing activity occured off the bottom (see § 660.330(b)(3)(i)(A)). In addition, only artificial bait was permitted; natural bait was prohibited (see § 660.330(b)(3)(i)(D)). This final rule modifies these gear restrictions to instead allow a minimum of 30 feet (9 m) between the bottom weight and the lowest fishing hook, and allow the use of natural bait. These changes are expected to increase catch of underutilized stocks, while continuing to mitigate catch of rebuilding yelloweye rockfish. No changes in gear restrictions are being made for the groundfish troll gear configuration. Fishermen must continue to have a minimum of 50 feet (15 m) between the bottom weight and the lowest fishing hook, and are still required to use artificial bait with groundfish troll gear.

Revisions to Cowcod Conservation Area Management Measures

The CCA was implemented in 2001 to reduce the bycatch of overfished cowcod (66 FR 2338, January 11, 2001), which was declared rebuilt in 2019. Within the CCA, which is comprised of the Western and Eastern CCAs, groundfish fishing by all commercial and recreational groundfish fisheries, including those that use both trawl and non-trawl gear, is prohibited. This final rule removes the CCA restrictions for all groundfish non-trawl fisheries, which opens up approximately 4,663 sq mi (12,077 sq km) to all non-trawl commercial and recreational groundfish sectors. The CCA is remaining in place for groundfish trawl fisheries, as the scope of the Council's action only considered non-trawl sectors. The purpose of this change is to provide fishing opportunity in this area given that cowcod has been declared rebuilt. Prior to the effective date of this final rule, non-trawl fishing was allowed shoreward of the 40 fm (73 m) lines around the islands and banks within the current boundaries of the CCA. With this final rule's removal of non-trawl CCA restrictions, the 40 fm (73 m) restriction is no longer in place (i.e., vessels can operate anywhere in the area, subject to pre-existing area closures). Eight new closures are established in the former boundaries of the CCA for non-trawl groundfish commercial and recreational fisheries (see the next section on Groundfish Exclusion Areas).

The Council recommended defining new fathom lines around islands and banks that reside inside the current CCA. Specifically, the Council recommended that coordinates be defined in the regulations for the 50, 60, 75, 100, 125, and 150 fm (91 m, 110 m, 137 m, 183 m, 229 m, and 274 m respectively) lines around Santa Barbara Island, San Nicolas Island, Cortes Bank, and Tanner Bank, and the 150 fm (274 m) line around Osborn Bank and the Eastern CCA. The purpose of defining these fathom lines around the islands and banks is to provide flexible management tools to restrict fishing seaward or shoreward of the new lines as needed, which would prevent interactions with certain nearshore species and control catch of groundfish. This final rule defines these boundaries in the regulations and they will be available for use in the future should the Council wish to recommend activating depth-based closures. The Council may also recommend modifying the status of these closures via an inseason action consistent with § 660.60(c) or via a rulemaking action for groundfish fisheries management.

New Conservation Areas

Groundfish Exclusion Areas (GEAs)

Amendment 32 and its implementing regulations included in this final rule create a new type of GCA called a GEA, which is intended to mitigate potential impacts to sensitive environments from certain groundfish fishing activity. Specifically, eight GEAs are being established in this action: (1) Hidden Reef; (2) West of Santa Barbara Island; (3) Potato Bank; (4) 107/118 Bank; (5) Cherry Bank; (6) Seamount 109; (7) Northeast Bank; and (8) The 43-Fathom Spot. All of these GEAs are located in the Southern California Bight in the area where non-trawl CCA restrictions are removed. These GEAs keep approximately 428 sq mi (1,100 sq km) closed to non-trawl fishing effort. The purpose of this change is to create a type of GCA that can be used to protect sensitive areas that are separate and distinct from groundfish essential fish habitat (EFH). These GEAs prohibit all commercial and recreational groundfish fishing. Commercial fishing vessels are allowed to continually transit through GEAs provided that all gear is stowed. Recreational vessels are allowed to continually transit through GEAs provided that no gear is deployed. If fishing for non-groundfish species within the GEAs, no groundfish is allowed on board the vessel.

Yelloweye Rockfish Conservation Areas (YRCAs)

A YRCA is a type of GCA used to mitigate bycatch of yelloweye rockfish in groundfish fisheries. Given that yelloweye rockfish is still rebuilding, the Council considered establishing new YRCAs in the event that yelloweye rockfish bycatch increases with increased fishing access to the Non-Trawl RCA. Amendment 32 and this final rule establishes four new YRCAs seaward of Oregon: (1) Tillamook YRCA; (2) Newport YRCA; (3) Florence YRCA; and (4) Heceta Bank YRCA. Within the YRCAs, restrictions apply to both commercial groundfish non-trawl fisheries and the non-tribal directed commercial Pacific halibut fishery. In recommending Amendment 32, the Council proposed that only one of the YCRAs would be “active” at the time of implementation. The other three closures would be “inactive” until the Council recommends, and NMFS implements, those closures. Thus, in this final rule, only the Heceta Bank YRCA is active. The Tillamook, Newport, and Florence YRCAs are defined and established in Federal regulations at § 660.11, but will remain inactive until the Council recommends modifying their inactive status and NMFS implements such changes via an inseason action consistent with § 660.60(c) or a future rulemaking action on groundfish fisheries. NMFS would need to modify the status of these YRCAs for the non-tribal directed commercial Pacific halibut fishery via a standard rulemaking process (i.e., not an inseason action), as the current regulations on the non-tribal directed commercial halibut fishery do not include a regulatory mechanism for modifying closed areas inseason.

Essential Fish Habitat Conservation Areas (EFHCAs)

The Magnuson-Stevens Act requires that FMPs describe and identify EFH and minimize to the extent practicable, adverse effects on EFH caused by fishing. The Pacific Coast Groundfish FMP authorizes the use of EFHCAs to protect groundfish EFH from specific types of fishing activity. Federal regulations at §§ 660.75 through 660.79 provide the coordinates for all current EFHCAs off the U.S. West Coast. Prior to this final rule, there were two types of EFHCAs: bottom trawl and bottom contact. Both bottom trawl and bottom contact EFHCAs apply to all fisheries and are not limited in application to groundfish fisheries. Amendment 32 creates a new type of EFHCA that prohibits using non-trawl bottom contact gear (e.g., pot/longline) for all non-tribal groundfish fisheries and the non-tribal directed commercial Pacific halibut fishery. The purpose of this new type of EFHCA is to protect groundfish EFH that will be newly exposed to non-trawl bottom contact gear from moving the seaward boundary of the Non-Trawl RCA to 75 fm (137 m) seaward of Oregon. Specifically, this final rule establishes five new EFHCAs: (1) Nehalem Bank East; (2) Bandon High Spot East; (3) Arago Reef West; (4) Garibaldi Reef North; and (5) Garibaldi Reef South. All of these new EFHCAs overlap partially or entirely with existing bottom trawl EFHCAs (i.e., bottom trawl gear is already prohibited in these areas), which is why the specified gear prohibition only includes non-trawl bottom contact gear. Taking, retaining, or possessing (except for the purpose of continuous transit) groundfish or Pacific halibut in these new EFCHAs is prohibited.

Block Area Closures (BACs)

The Pacific Coast Groundfish FMP and its implementing regulations authorize the use of BACs as a routine management measure to control bycatch of groundfish in trawl fisheries. BACs, defined at § 660.11, are size variable spatial closures in the EEZ bounded by latitude lines or the EEZ, with depth contour approximations defined at §§ 660.71 through 660.74 ((10 fm (18 m) through 250 fm (457 m)), and § 660.76 (700 fm (1280 m)). Amendment 28 to the FMP (84 FR 63966, November 19, 2019) first established BACs as a management tool to control bycatch of groundfish. The salmon bycatch minimization measures final rule (86 FR 10857, February 23, 2021) expanded BACs as a tool to minimize salmon bycatch. Amendment 32 and its implementing regulations included in this final rule expand the use of BACs for groundfish non-trawl fisheries. The purpose of this change is to create a mechanism to control bycatch of groundfish and bycatch of protected or prohibited species from non-trawl fisheries given the new flexibilities (e.g., newly opened fishing grounds). Thus, under this final rule, BACs can be implemented in the EEZ coastwide. BACs also could be implemented within tribal Usual and Accustomed (U&A) fishing areas but would only apply to non-tribal vessels.

This final rule does not implement specific individual BACs. This final rule allows NMFS to close or reopen BACs preseason or inseason. This approach is consistent with existing routine management measures in framework amendments to the FMP that have already been implemented and incorporated into the regulations. Most trip, bag, and size limits, and some GCA closures in the groundfish fishery, including Bycatch Reduction Areas and BACs, have been designated routine management measures in the Pacific Coast Groundfish FMP and in § 660.60(c). The Council can recommend to NMFS implementation or modification of these routine management measures through an expedited process involving a single Council meeting. Inseason changes are announced in the Federal Register pursuant to the requirements of the Administrative Procedure Act. If good cause exists under the Administrative Procedure Act to waive notice and comment, a single Federal Register notification will announce routine inseason BACs recommended by the Council and implemented by NMFS.

When deciding whether to recommend BACs for NMFS to implement, consistent with the Pacific Coast Groundfish FMP, the Council considers environmental impacts, economic impacts, and public comments that are received via the Council process. Depending on the circumstances, NMFS may close areas for a defined period of time, for example, a few months or the remainder of the fishing year, or NMFS may maintain a closure for an indefinite period of time, for example, until reopened by a subsequent action. NMFS may close one or more BACs and the size of the BACs can vary. A Federal Register notification will announce the geographic boundaries of one or more BACs, the effective dates, applicable gear/fishery restrictions, as well as the purpose and rationale. NMFS would also disseminate this information on BACs through public notices and by posting on the West Coast Region website (see ADDRESSES for electronic access information).

Expected Effects of This Action

The Council prepared a detailed Analysis (see Electronic Access section of ADDRESSES) that analyzed the effects of Amendment 32 on various resources. A brief summary of expected effects from the Analysis was provided in the proposed rule (88 FR 59838, August 30, 2023) and is not repeated here.

Administrative Regulatory Changes

In addition to the actions described above, NMFS is also implementing three minor regulatory changes in this final rule. These changes, which are necessary to improve clarity of existing regulations, are administrative in nature.

Groundfish Conservation Area Nomenclature Corrections

NMFS is universally correcting all instances of “Cordell Banks” to its correct name of “Cordell Bank.” NMFS is modifying the description of the Cordell Bank GCA at § 660.70(q) to clarify that fishing is not permitted “within” its boundaries as opposed to “around” its boundaries, as currently specified in the regulations. The purpose of this change is to clarify the intended meaning of these regulations for fishermen and to support enforcement efforts, but this change does not constitute a material change to the GCA.

Bait Definitions

NMFS is adding regulatory definitions for artificial lure, bait (both natural and artificial), and weighted gear under § 660.11. As amended by this final rule, the regulations allow for the use of natural bait on non-bottom contact stationary vertical jig gear in the Non-Trawl RCA, and continue to prohibit its use on groundfish troll gear in the Non-Trawl RCA. However, natural bait is not defined in the regulations. The purpose of adding these definitions (which are based on common usage) is to clarify the types of bait that are permitted for use within the Non-Trawl RCA. This will aid fishermen and support enforcement efforts.

Vessel Monitoring System Exemptions

Vessels participating in the limited entry groundfish fishery, open access vessels using non-groundfish trawl gear (vessels fishing for ridgeback prawn, California halibut, and sea cucumber trawl), and any vessels that use open access gear targeting groundfish or that have groundfish bycatch (salmon troll, prawn trap, Dungeness crab, halibut longline, California halibut line gear, and sheephead trap), are required to install a NMFS OLE type-approved mobile transceiver unit and to arrange for a NMFS OLE type-approved communications service provider to receive and relay transmissions to NMFS OLE prior to fishing. These units automatically record a vessel's position (i.e., the vessel's geographic location in latitude and longitude coordinates), and transmit those coordinates to a communications service provider.

Exemptions from the VMS requirement for specific reasons are allowed (50 CFR 660.14(d)(4)). VMS users must follow the requirements at § 660.14(d)(4)(vi) to submit exemption reports. Existing exemptions include a haul out exemption, an outside areas exemption, a permit exemption, and a long-term departure exemption. This final rule is creating two new exemptions: one for maintenance that does not require a haul out, and one for sale of a vessel. Like the existing haul out exemption, the new maintenance exemption allows VMS units to temporarily be inoperable and allows transmissions to be discontinued while work is being done on the vessel. However, the new maintenance exemption is not limited to maintenance that is conducted while a vessel is hauled out.

The new exemption for sale of a vessel would be an extension of the existing long-term departure exemption. This new exemption for sale of a vessel is being implemented as a response to situations in which new owners purchase vessels and discontinue use of VMS units used by the previous owners. If the previous owners do not submit a long-term departure exemption prior to the sale, the requirement for the VMS units to operate continues to exist on the sold vessels, even when the new owners do not participate in an activity requiring VMS.

Both of these new exemptions will create flexibilities in the vessel owners' VMS requirements when vessels are not participating in an activity requiring VMS. If these new exemptions were not added to the regulations, fishermen would continue to be in violation of VMS requirements while their vessels undergo long-term maintenance or when prior owners of newly purchased vessels did not submit a long-term departure exemption prior to selling the vessel.

Public Comments

The notice of availability for Amendment 32 was published on August 2, 2023 (88 FR 50830), and was open for comment until October 1, 2023. NMFS received a total of four public comments on the notice of availability. The proposed rule for Amendment 32 was published on August 30, 2023 (88 FR 59838), and was open for public comment until September 29, 2023. NMFS received a total of five public comments on the proposed rule. Two commenters provided the same comments for both the notice of availability and for the proposed rule. A summary of public comments submitted for both the notice of availability and the proposed rule and NMFS' responses to all of those comments are provided below.

Comment 1: An anonymous individual submitted a comment on the notice of availability requesting that NMFS ensure that the new GEAs being implemented in the Southern California Bight allow fishing for non-groundfish species.

Response: The new GEAs will only prohibit groundfish fishing. If a vessel is fishing for non-groundfish species within the GEAs, no groundfish is allowed on board the vessel. This information is in the preamble to the proposed rule (88 FR 59838), the Analysis (see ADDRESSES), and the preamble to this final rule.

Comment 2: A private individual submitted a comment on the proposed rule, questioning why boundary changes to the Non-Trawl RCA are only being made seaward of Oregon and California, and not off Washington.

Response: During the development of this action, the Council contemplated changes to the Non-Trawl RCA boundary seaward of Washington (see Agenda Item E.6.a Supplemental WDFW Report 1 of the November 2021 briefing book at https://www.pcouncil.org). However, the alternative that included changes off Washington was withdrawn for possible future consideration due to anticipated overlap and resulting conflicts between tribal, recreational, and commercial fisheries, as well as concern over increased yelloweye bycatch and habitat impacts (see Agenda Item G.6.a WDFW Report 1 in the September 2022 briefing book at https://www.pcouncil.org). Therefore, changes to the Non-Trawl RCA off Washington were not included in the recommendation by the Council for this action and are not being included in this final rule.

Comment 3: A private individual submitted a comment on the proposed rule, expressing concern over the potential of increased drift gillnetting in the newly opened fishing areas.

Response: This action opens up fishing areas for groundfish non-trawl fisheries and the non-tribal directed commercial Pacific halibut fishery only. Neither of these fisheries utilize drift gillnets. This rule does not open any fishing area to drift gillnetting.

Comment 4: A professional mariner/private citizen from Oregon submitted a comment on the proposed rule expressing concern that this action is not placing enough emphasis on protection of fish species. This same commenter also expressed concern that the VMS haul out exemption will yield enforcement and accountability challenges.

Response: The Magnuson-Stevens Act dictates that conservation and management measures shall prevent overfishing while achieving, on a continuing basis, the optimum yield from each U.S. fishery. Yelloweye rockfish is the only fish species currently under a rebuilding plan. To mitigate potential yelloweye rockfish impacts off Oregon, the Council recommended, and NMFS is implementing, three new YRCAs for potential future use if yelloweye rockfish bycatch becomes an issue, and one new YRCA that will be active at the time of implementation (i.e., the Heceta Bank YRCA).

With regard to the concern over the VMS haul out exemption, NOAA's OLE supports the additional clarification of exemptions to allow fishery participants to have flexibility when needed to conduct non-haul out maintenance on a vessel involving a disruption to power, thus impacting VMS transmissions. Sufficient documentation of maintenance activities is required in the submission of the maintenance exemption report. In addition, adequate safeguards are in place to ensure vessels with a maintenance exemption do not resume fishing before VMS transmissions resume.

Comment 5: A fisherman from Crescent City, California, submitted a comment on the notice of availability, expressing concern over the closing of the nearshore rockfish fishery in Northern California due to quillback rockfish and its negative impact to the local economy.

Response: This comment is outside the scope of this action, as this action does not implement any changes to quillback rockfish catch limits or closures.

Comment 6: The environmental nongovernmental organization (NGO) Oceana submitted a comment letter on both the notice of availability and proposed rule requesting that NMFS disapprove the proposed modifications to Non-Trawl RCA management measures seaward of California. Oceana expressed concern over adverse effects of moving this boundary to: (1) EFH, namely coral and sponges; (2) yelloweye rockfish because it is still rebuilding; and (3) canary rockfish, based on a claim that new science indicates that canary rockfish has not rebuilt. Oceana supports moving the Non-Trawl RCA boundary to 75 fm (137 m) off Oregon because the implementing regulations for Amendment 32 provide additional EFH and yelloweye rockfish fishery closures in the area being opened to fishing. Based on the fact that these measures are being implemented for Oregon and not for California, Oceana claims that Amendment 32 fails to minimize potential fishing impacts to EFH and rebuilding rockfish stocks off California. Oceana supports all other aspects of Amendment 32.

Response: NMFS thanks Oceana for its expressed support for aspects of Amendment 32. Below is the NMFS response to the Oceana concerns.

By moving the seaward boundary of the Non-Trawl RCA to 75 fm (137 m) seaward of Oregon and California, small portions of 23 EFHCAs (17 for California, 6 for Oregon) that currently prohibit bottom trawling will be newly exposed to bottom contact non-trawl gear, such as pot and longline gear. Although the Non-Trawl RCA was implemented to protect overfished groundfish stocks, these 23 bottom trawl EFCHAs have received ancillary protection from non-trawl gear due to their overlap with the Non-Trawl RCA. This final rule minimizes, to the extent practicable, adverse effects to EFH from fishing, as described below.

During the development of this action, the Council extensively reviewed all 23 EFCHAs and whether or not the small portions that would be exposed from moving the Non-Trawl RCA boundary warranted immediate protection in advance of the Council's next EFH review process. For example, the Nehalem Bank EFCHA includes area that has been a long-term study site for the Oregon Department of Fish and Wildlife (ODFW) since 2007 for evaluating the before and after effects of bottom trawling on macroinvertebrates. Similarly, the Bandon High Spot EFHCA includes Coquille Bank, which is also an active research site. Disturbance to these areas by new bottom contact gear activity inside the EFHCAs could compromise the research being conducted and therefore warranted a closure to bottom contact gear ahead of the upcoming routine EFH review, which is set to begin in 2025. For the remaining EFHCAs off of Oregon, including Garibaldi Reef North, Garibaldi Reef South, and Arago Reef, the Council chose to add additional EFH protections due to a review of recent 2019 ODFW data indicating a high amount of rocky reef habitat.

Similar reasons were not identified for the EFHCAs seaward of California. Of the 17 bottom trawl EFHCAs off California, only 4 have portions greater than 5 sq mi (13 sq km) that will be exposed by this action. This final rule converts 113.5 sq mi (294 sq mi) of the almost 200 sq mi (518 sq km) of area currently closed to all bottom trawl EFHCAs, to be closed to all groundfish bottom contact gear. The Analysis describes the current understanding of potential pot gear and longline gear impacts on hard substrates. Generally, fishermen avoid high relief areas due to concerns of gear loss or gear damage, however, when there are interactions, the best available information suggests that impacts are minor and recovery time is less than 6 months (see Chapter 7 of the EA). While the Analysis acknowledges that adverse impacts to EFH may occur, the Analysis concluded there would be no significant adverse impacts from Amendment 32 on habitat. Ultimately, the Council decided to consider whether additional protections are needed for the exposed bottom trawl EFHCAs seaward of California during the next routine groundfish EFH review, which is set to begin in 2025 (see Council transcript, page 108-109 from the September 2022 meeting at https://www.pcouncil.org) when updated habitat data is available to fully inform what protections are needed. In the interim and prior to any future EFH protections that may result from the Council's next EFH review, the individual areas being exposed are small and comprise a total of 77.9 sq mi (202 sq km); the Analysis concluded that significant impacts for the purpose of NEPA are not anticipated in these areas. Therefore, NMFS has determined that opening of the Non-Trawl RCA off California does minimize adverse impacts on habitat and opening of this area to non-trawl fishing is supported by the best available information.

With regard to yelloweye rockfish, the Council is opening the Non-Trawl RCA via a step-wise approach, with one of the primary reasons being to continue adequate protection for yelloweye rockfish, which is rebuilding ahead of the time frame anticipated in the rebuilding plan. As Oceana points out, one new YRCA (Heceta Bank) is being implemented to protect important yelloweye rockfish habitat off Oregon. In addition, three new YRCAs are being defined in regulation because the Council identified them as flexible inseason tools that could be activated if yelloweye bycatch becomes a concern; these new YRCAs were selected based on a review of the Yelloweye Habitat Suitability Model. The Council did not identify any areas of California that appear necessary for a YRCA, and therefore none were recommended to NMFS.

With regard to canary rockfish, Oceana cites a recent Scientific and Statistical Committee (SSC) report (see Agenda Item G.2.a Supplemental SSC Report 1 September 2023 at https://www.pcouncil.org) that includes a review of the current 2023 stock assessment. The new model's hindcast estimates that the stock may have still been below the management target when it was declared rebuilt in 2015. However, the stock was declared rebuilt at the time based on the best scientific information available. The new 2023 stock assessment indicates that the stock is currently at 35.1 percent of unfished biomass, which is in the precautionary zone and still above the minimum stock size threshold of 25 percent unfished biomass (i.e., not overfished). The SSC adopted the 2023 stock assessment as the best scientific information available for informing management. The Council and NMFS will continue to track the status of canary rockfish, and NMFS can take a diversity of actions to reduce catch of canary rockfish if necessary.

With regard to impacts to coral and sponge habitats, Oceana expressed concern over the Office of National Marine Sanctuaries' (ONMS) request of the Council to implement fishery closures for coral research and restoration sites that require long-term closure from bottom contact gear types, and how the implementing regulations for Amendment 32 will expose areas that may be used for these purposes. At the June 2023 Council meeting, ONMS requested that the Council consider a process starting in September 2023 to meet the sanctuaries needs for deep-sea coral research and restoration (see Agenda Item C.8.a, Supplemental ONMS report 1, June 2023). The Council began formal consideration of this issue at its September 2023 meeting (see Agenda Item H.2, September 2023) and has scheduled consideration of closing areas suitable for coral research and restoration (see Agenda Item H.10, Supplemental Attachment 4: Draft Proposed Council Meeting Agenda, September 2023 at https://www.pcouncil.org). At their September 2023 meeting, the Council identified three areas that will be analyzed for coral restoration and research. The Council is expected to select a preliminary preferred alternative for sites to close for coral research and restoration at their March 2024 meeting.

Comment 7: The environmental NGO the Center for Biological Diversity (CBD) submitted a comment letter on both the notice of availability and proposed rule opposing the implementing regulations for Amendment 32 and the analysis in the EA. As described below, CBD expressed concern over fishing impacts from pot gear to humpback whales listed under the Endangered Species Act (ESA), fishing impacts from fixed gear on ESA-listed leatherback sea turtles, and fishing impacts from hook-and-line gear on ESA-listed short-tailed albatross. CBD also expressed concern over adverse impacts from pot and longline gear on deep-sea coral and sponge habitats.

Response: In its letter, CBD asserts that NMFS should not open the Non-Trawl RCA as proposed because NMFS has failed to assess the impacts on corals and sponges. CBD asserts that the impacts from opening this area will cause a significant impact on corals and sponges and therefore an Environmental Impact Statement is needed. However, in support of this assertion, CBD relies on general information about coral and sponge life history and the impact of fishing on those species and does not provide any basis for why Amendment 32 specifically causes a significant impact on corals and sponges. As indicated in the Purpose and Need for Amendment 32 (described in the Analysis), habitat protection was part of the consideration of the Council (“The purpose of the proposed actions are to provide additional access in some areas that are currently closed to groundfish fishing inside the Non-Trawl Rockfish Conservation Area (RCA) and Cowcod Conservation Area (CCA). In doing so, measures were developed to address adverse effects on designated Essential Fish Habitat (EFH) and sensitive benthic habitats exposed to fishing activity under the proposed actions and mitigate bycatch of groundfish and protected and prohibited species.”). In the development of the action, the Council and NMFS considered impacts on habitat from opening the Non-Trawl RCA, including EFH, corals and sponges, including as documented in the EA for this action. In addition, CBD has failed to acknowledge that the Council recommended, and NMFS is implementing, tools specifically designed to minimize the impact of the action on habitat, including corals. This includes implementing GEAs off California and EFHCAs that prohibit non-trawl bottom contact gear (e.g., pot/longline) off Oregon, efforts that were developed with significant public input including from environmental NGOs. Further, as stated above, the Council announced its intent to evaluate exposed EFH off California during the Council's routine EFH review process, which starts in 2025.

CBD incorrectly asserts that NMFS has an obligation under the National Environmental Policy Act (NEPA) to quantify the impacts on coral habitat through “seabed mapping at a meter's spatial resolution”. However, consistent with its NEPA obligations, NMFS used the best available information to determine if there is a significant impact of an action—seabed mapping at a meter's spatial resolution across the Non-Trawl RCA, spanning waters off California and Oregon, does not currently exist. NMFS and the Council conducted extensive analysis, through a rigorous public process, on the habitat impacts of opening parts of the Non-Trawl RCA, including the additional habitat mitigation measures mentioned above (i.e., GEAs and EFCHAs). The Analysis discloses the potential for impacts of the proposed action on habitat, including identifying those areas that are proposed to be open to fishing where there are higher densities of corals and sponges and identifying the potential adverse impacts of fishing gear on that habitat. In addition to the maps presented in the Analysis, this information was available via a Public Map Viewer, which allowed users to zoom in on any specific area being opened to fishing. The Public Map Viewer includes a layer that shows deep-sea coral and sponge observations, a layer that shows a variety of seafloor substrate types (i.e., hard bottom, soft bottom, or mixed), and a layer that shows habitat areas of particular concern. The Analysis identified that there was no expected significant impact of the action on habitat. NMFS used the best available information to make a Finding of No Significant Impact and thereby satisfied its NEPA obligations.

In its letter, CBD alleges that the proposed rule would remove a seabird mitigation measure for two gear types which “may affect” ESA-listed short-tailed albatross, and therefore NMFS must consult with the U.S. Fish and Wildlife Service (USFWS). Regarding ESA consultation, the USFWS issued a Biological Opinion in 2017 concluding that the continued operation of the Pacific Coast Groundfish Fishery was not likely to jeopardize the continued existence of short-tailed albatross (FWS reference: 01EOFW00-2017-F-0316) as well as other ESA-listed species. Regarding the removal of seabird mitigation measures, CBD misunderstood the proposed action. Currently, there is a prohibition on the use of natural bait on both stationary vertical jig gear and groundfish troll gear (i.e., the only two gear types currently allowed for use inside the Non-Trawl RCA). CBD has asserted that the proposed rule would remove this prohibition for both gear types. This is incorrect; the implementing regulations for Amendment 32 will only allow natural bait on stationary vertical jig gear. As stated in the Analysis, vertical lines on stationary vertical jig gear are closely tended to the vessel and do not float at the surface and thus significant impacts to seabirds are not expected. NMFS discussed allowing natural bait on this gear type with the USFWS during the development of Amendment 32, and the USFWS concurred that allowing natural bait on the stationary vertical jig gear does not necessitate re-initiation under the ESA. The prohibition on using natural bait on groundfish troll gear inside the Non-trawl RCA will remain in place. NMFS notes that non-bottom contact stationary vertical jig gear has been tested inside the Non-Trawl RCA since 2013 under an exempted fishing permit (EFP) project; artificial bait was required in the EFP because the nature and performance of the gear was not initially known. After 9 years of EFP testing with 100 percent observer coverage, there have been zero documented seabird interactions. Because of the way in which the gear is fished and the reduced exposure of baited hooks and proximity to humans, NMFS does not anticipate risk to seabirds from the use of natural bait on stationary vertical jig gear. Therefore, NMFS determined that there was no significant impact of the proposed action on seabirds. NMFS has also determined that re-initiation of ESA consultation is not warranted, as Amendment 32 and its implementing regulations will not affect endangered and threatened species or critical habitat in any manner or to an extent not considered in the 2017 Biological Opinion.

CBD asserts that NMFS should re-initiate ESA consultation for the impact of this action on ESA-listed leatherback sea turtles and their critical habitat because the proposed rule would pose a risk of gear entanglement not contemplated in the 2012 Biological Opinion (NWR-2012-876). CBD supports this claim by pointing out that NMFS has implemented a fishery closure to protect leatherback sea turtles in the drift gillnet fishery. NMFS notes that the drift gillnet fishery is a different fishery managed under the Highly Migratory Species FMP, and that the Analysis prepared for this action contemplates potential impacts from groundfish non-trawl fisheries under the Pacific Coast Groundfish FMP. As described in the Analysis and the 2012 Biological Opinion, there has not been a documented interaction with a leatherback sea turtle in the groundfish fishery since 2008. Additionally, there is no evidence to suggest that a geographic expansion of fishery effort (not an increase in fishing effort) into the area being opened significantly increases the risk of entanglement to leatherback sea turtles. As a result of this action, the density of non-trawl gear in the EEZ both shoreward and seaward of the Non-Trawl RCA will likely lessen, as some vessels will likely shift some of their effort to the newly opened depth bin. This will increase the spatial distribution of fixed gear, but will not change the overall amount of effort nor will it concentrate effort in a particular area. In addition, there is no evidence to suggest that vessels fishing in 75-100 fm or 75-125 fm (137-183 m or 137-229 m) would create more potential for sea turtle interactions compared to fishing in 100-125 fm (183-229 m) or greater, depths at which fishing is already open. NMFS is not aware of any information, and CBD has failed to provide any supporting information, that indicates that the action presents a notable increase in potential exposure to sea turtles. Therefore, in the Finding of No Significant Impact, NMFS concluded that Amendment 32 will not significantly impact ESA-listed sea turtles. NMFS also has determined there are no anticipated impacts on ESA-listed leatherback sea turtles beyond those impacts already considered in the 2012 Biological Opinion and therefore re-initiation is not warranted.

CBD asserts that NMFS should re-initiate ESA consultation for the impact of this action on ESA-listed humpback whales and their critical habitat in part because the proposed rule would pose a risk of entanglement not contemplated under the 2020 Biological Opinion. As stated in the preamble to the proposed rule, NMFS evaluated the effects of the groundfish fishery on ESA-listed humpback whales and their critical habitat in the 2020 Biological Opinion for the Pacific Coast Groundfish Fishery (WCRO-2018-01378). Although there will likely be a geographic effort shift from the sablefish pot fishery as well as other non-trawl fisheries into the newly opened area, the Council and NMFS do not anticipate an overall increase in the number of participants in any non-trawl fishery sector. As explained in the Analysis, it is the amount of gear in the water rather than the amount of area or habitat designation that affects potential entanglement risk for whales. This action does not change the overall amount of sablefish that can be caught by the fishery, which was analyzed as part of the 2023-2024 Biennial Harvest Specifications and Management Measures EA (available at https://www.fisheries.noaa.gov/west-coast/laws-and-policies/groundfish-actions-nepa-documents). That EA describes the anticipated impacts and potential for adverse impacts of fixed gear in the groundfish fishery on ESA-listed humpback whales from the harvest levels implemented in the 2023-2024 harvest specifications. Similarly, the 2020 Biological Opinion evaluates the effects of the fixed gear fishery on ESA-listed humpback whales and acknowledges that there is risk from entanglements, but not at a level which jeopardizes the ESA-listed species or adversely modifies critical habitat. In the Analysis for this action, and in the determination of whether re-initiation of the 2020 Biological Opinion was required, NMFS evaluated the anticipated changes from moving the boundary of the Non-Trawl RCA. As a result of this action, the density of pot gear and other non-trawl gear in the EEZ both shoreward and seaward of the Non-Trawl RCA will likely lessen, as some vessels will likely shift some of their effort to the newly opened depth bin. This will increase the spatial distribution of pot gear, but will not change the overall amount of effort nor will it concentrate effort in a particular area. In addition, there is no evidence to suggest that vessels fishing in 75-100 fm or 75-125 fm (137-183 m or 137-229 m) would create more potential for whale interactions compared to fishing in 100-125 fm (183-229 m) or greater, depths at which fishing is already open. NMFS is not aware of any information, and CBD has failed to provide any supporting information beyond generalizations about humpback whale critical habitat, that indicates that the action presents a notable increase in potential exposure to migrating humpback whales nor that the area includes known or significant foraging or breeding area.

Therefore, in the Finding of No Significant Impact, NMFS concluded that Amendment 32 will not significantly impact ESA-listed humpback whales. NMFS also concluded there are no anticipated impacts to the Mexican Distinct Population Segment (DPS) or the Central American DPS of humpback whales from Amendment 32 beyond those impacts already considered in the 2020 Biological Opinion and therefore re-initiation is not warranted.

NMFS acknowledges CBD's comment that the draft Analysis does not mention the Central American DPS of humpback whale. The Analysis intentionally discusses potential impacts to humpback whales in a generic sense without discussion of the separate subpopulations, however Figure 27 and Figure 28 mistakenly omit the Central American DPS in the legends. NMFS has corrected this in the Final Analysis.

CBD has alleged that NMFS cannot rely on the 2021 Marine Mammal Protection Act (MMPA) 101(a)(5)(E) permit that was issued for the sablefish pot gear fishery. However, this assertion incorrectly states the status of that permit. On July 26, 2023, Judge James Donato in the Northern District of California signed an order approving a stipulated settlement agreement between NMFS and CBD resolving claims in the matter of Center for Biological Diversity v. Raimondo, et al., 3:22-cv-117 (N.D. Cal.). Under that agreement, the parties agreed that “The National Marine Fisheries Service's Marine Mammal Protection Act permit regarding the sablefish pot gear fishery is hereby remanded to the agency for further consideration without vacatur.” Therefore, the permit is still operable while NMFS addresses other stipulations in the settlement agreement.

Finally, CBD claims that NMFS failed to acknowledge a 2021 humpback whale entanglement in the hook-and-line fishery and that this entanglement triggers re-initiation of the 2020 Biological Opinion. The Council's ESA Workgroup Report from the June 2023 Council meeting included information on the 2021 entanglement (see Agenda Item H.6.a GESW Report 1 June 2023 at https://www.pcouncil.org); this report was referenced in the Analysis. Because this is new information, NMFS' investigation on this entanglement is ongoing. The 2020 Biological Opinion evaluates the ongoing operation of the entire Pacific Coast groundfish fishery, all gear types and sectors. NMFS expects this entanglement will be incorporated into a future stock assessment report for humpback whales and will continue to be evaluated relative to whether this information would lead to a re-initiation of the 2020 Biological Opinion.

Changes From the Proposed Rule

NMFS has identified minor technical changes that must be made to the proposed rule's regulatory text amending the regulations to implement Amendment 32. These technical changes reflect inadvertent omissions in the proposed rule's regulatory text. This final rule includes the following technical changes in the regulatory text, as described below.

First, this final rule adds a generic definition for GEAs at § 660.11, as opposed to only describing GEAs in the regulatory sections that describe sector-specific management measures. The purpose of adding this generic definition is to clarify the scope of options for using GEAs. For example, GEAs do not always need to prohibit all groundfish sectors from fishing in a certain area or prohibit the use of all gear types from a certain area; they can prohibit specific fishing sectors or specific gear types. This is consistent with the existing regulations for how BACs may be implemented to control bycatch of groundfish.

Second, this final rule modifies the regulations at § 300.63(f)(1), § 660.11, § 660.60(c)(3)(i), § 660.230(d)(14) and § 660.330(d)(15) to clarify that the shoreward boundary of the EEZ (i.e., the State/Federal 3-nautical mile line) can be used as a boundary for the Non-Trawl RCA. NMFS inadvertently omitted this change in the proposed rule. Adding this change will make the use of the Non-Trawl RCA consistent with the use of BACs, whose east and west boundaries may also be defined by EEZ boundaries, and are not necessarily restricted to boundary lines that approximate depth contours.

Third, this final rule includes changes that provide additional clarification on the requirements for using the non-bottom contact gear types described at § 660.330(b)(3). These requirements are necessary for adequate enforcement of proper usage of these gear types. Therefore, this final rule amends § 660.13(d)(4)(iv) to clarify that only one declaration for legal non-bottom contact hook-and-line gear may be made per fishing trip (i.e., either gear code 36 at § 660.(d)(4)(iv)(A)(28) or code 37 at § 660.(d)(4)(iv)(A)(29)). This change is consistent with the requirement in current regulations at § 660.330(b)(3) specifying that only one legal non-bottom contact gear type may be carried on board at a time. Therefore, to avoid potential confusion among fishermen, this final rule corrects the inadvertent omission in the proposed rule of an amendment to § 660.13(d)(4)(iv) to similarly specify that only one declaration can be made. Adding this change is consistent with the Council and NMFS's intent for these gear provisions.

Fourth, this final rule corrects an inaccurate citation (for a table) in the regulations at § 660.330(d)(14), which describes the regulations for open access fisheries around the Farallon Islands. The proposed rule's reference to Table 2 South should, instead, be a reference Table 3 South, as this provision is in the open access portion of the regulations, whereas Table 2 South is in the LEFG portion of the regulations.

No changes were made to the final rule in response to public comments on the proposed rule.

Classification

Pursuant to section 304(b)(1)(A) and 305(d) of the Magnuson-Stevens Act and Section 5 of the Northern Pacific Halibut Act of 1982 (Halibut Act, 16 U.S.C. 773c), the NMFS Assistant Administrator has determined that this final rule to implement Amendment 32 is consistent with the FMP, other provisions of the Magnuson-Stevens Act, and other applicable law. For rulemaking efficiency, NMFS is also implementing minor administrative regulatory changes. These changes include corrections to all references to “Cordell Bank,” and, in the description of the Cordell Bank GCA at § 660.70(q), clarifying that fishing is not permitted “within” its boundaries as opposed to “around” its boundaries; adding new regulatory definitions for different types of fishing bait, and adding new exemptions to the Vessel Monitoring System reporting requirements.

This final rule has been determined to be not significant for purposes of Executive Order 12866.

There are no relevant Federal rules that may duplicate, overlap, or conflict with this action.

Certification Under the Regulatory Flexibility Act

The Chief Counsel for Regulation, Department of Commerce, certified to the Chief Counsel for Advocacy of the Small Business Administration during the proposed rule stage that this action will not have a significant economic impact on a substantial number of small entities. The factual basis for this certification was published in the proposed rule and is not repeated here. No comments were received regarding this certification. As a result, a final regulatory flexibility analysis was not required and none was prepared.

Information Collection Requirements

This final rule contains a collection-of-information requirement subject to review and approval by the Office of Management and Budget (OMB) under the Paperwork Reduction Act (PRA). This rule will revise the existing requirements under OMB control # 0648-0573, “VMS and Declarations,” by adding and modifying declaration codes for the purpose of monitoring and enforcing the new provisions in the Non-Trawl RCA for limited fixed gear vessels and IFQ gear switchers. These new declaration codes are not anticipated to alter the number of respondents, anticipated responses, burden hours, or burden costs, as the affected vessels are already required to declare their fishing activities. The new declaration codes will allow NOAA's OLE to track those vessels that are declaring to fish inside the Non-Trawl RCA and identify what catch limits they should adhere to. Public reporting burden for submitting a declaration report is estimated to average 4 minutes per individual report, including the time for reviewing instructions, searching existing data sources, gathering and maintaining the data needed, and completing and reviewing the collection of information.

Public comment is sought regarding: whether this proposed collection of information is necessary for the proper performance of the functions of the agency, including whether the information shall have practical utility; the accuracy of the burden estimate; ways to enhance the quality, utility, and clarity of the information to be collected; and ways to minimize the burden of the collection of information, including through the use of automated collection techniques or other forms of information technology. Submit comments on these or any other aspects of the collection of information at www.reginfo.gov/public/do/PRAMain.

Notwithstanding any other provision of the law, no person is required to respond to, nor shall any person be subject to a penalty for failure to comply with, a collection of information subject to the requirements of the PRA, unless that collection of information displays a currently valid OMB Control Number.

List of Subjects

50 CFR Part 300

Fish, Fisheries, Fishing, Fishing vessels.

50 CFR Part 660

Fisheries, Fishing, Reporting and recordkeeping requirements.

Dated: November 17, 2023.
Samuel D. Rauch, III,
Deputy Assistant Administrator for Regulatory Programs, National Marine Fisheries Service.

For the reasons set out in the preamble, NMFS amends 50 CFR parts 300 and 660 as follows:

PART 300—INTERNATIONAL FISHERIES REGULATIONS

Subpart E—Pacific Halibut Fisheries

1. The Authority citation for part 300 continues to read as follows:

Authority: 16 U.S.C. 773-773k.

2. Amend § 300.63 by revising paragraph (f) to read as follows:

§ 300.63 Catch sharing plan and domestic management measures in Area 2A.

* * * * *

(f) Area 2A Non-Treaty Commercial Fishery Closed Areas—(1) Nontrawl Rockfish Conservation Area (RCA). Non-tribal commercial vessels operating in the directed commercial fishery for halibut in Area 2A are prohibited from fishing within a groundfish closed area known as the nontrawl RCA. Nontrawl RCA boundaries are defined by specific latitude and longitude coordinates that approximate depth contours, or the boundaries of the EEZ. Between the U.S./Canada border and 46°16′ N lat., the shoreward boundary of the nontrawl RCA is the EEZ. Between 46°16′ N lat. and 40°10′ N lat., the shoreward boundary of the nontrawl RCA is a line approximating the 30-fm (55-m) depth contour, or the shoreward boundary of the EEZ, whichever is more seaward. Coordinates for the 30-fm (55-m) boundary are listed at 50 CFR 660.71(e). Between the U.S./Canada border and 46°16′ N lat., the seaward boundary of the nontrawl RCA is a line approximating the 100-fm (183-m) depth contour. Coordinates for the 100-fm (183-m) boundary are listed at 50 CFR 660.73(a). Between 46°16′ N lat. and 40°10′ N lat., the seaward boundary of the nontrawl RCA is a line approximating the 75-fm (137-m) depth contour. Coordinates for the 75-fm (137-m) boundary are listed at 50 CFR 660.72(j).

(2) North Coast Commercial Yelloweye Rockfish Conservation Area (YRCA). YRCAs are defined in the groundfish regulations at 50 CFR 660.70. Vessels that incidentally catch halibut while fishing in the sablefish primary fishery are required to follow area closures and gear restrictions defined in the groundfish regulations. It is unlawful to take and retain, possess (except for the purpose of continuous transit) or land halibut with limited entry longline gear within the North Coast Commercial Yelloweye Rockfish Conservation Area. All fishing gear for targeting halibut must be stowed while transiting through the North Coast Commercial YRCA when the closure is in effect.

(3) Salmon Troll YRCA. YRCAs are defined in the groundfish regulations at 50 CFR 660.70 and in the salmon regulations at 50 CFR 660.405(c). Non-tribal commercial vessels that incidentally catch halibut while fishing in the salmon troll fishery are prohibited from fishing within a closed area known as the Salmon Troll YRCA. It is unlawful for commercial salmon troll vessels to take and retain, possess (except for the purpose of continuous transit) or land halibut within the Salmon Troll YRCA. All fishing gear for targeting halibut must be stowed while transiting through the Salmon Troll YRCA when the closure is in effect.

(4) Tillamook YRCA. YRCAs are defined in the groundfish regulations at 50 CFR 660.70. It is unlawful for non-tribal commercial vessels operating in the directed halibut fishery in Area 2A to take and retain, possess (except for the purpose of continuous transit) or land halibut within the Tillamook YRCA. All fishing gear for targeting halibut must be stowed while transiting through the Tillamook YRCA when the closure is in effect. The closure is not in effect at this time.

(5) Newport YRCA. YRCAs are defined in the groundfish regulations at 50 CFR 660.70. It is unlawful for non-tribal commercial vessels operating in the directed halibut fishery in Area 2A to take and retain, or possess (except for the purpose of continuous transit) or land halibut within the Newport YRCA. All fishing gear for targeting halibut must be stowed while transiting through the Newport YRCA when the closure is in effect. The closure is not in effect at this time.

(6) Florence YRCA. YRCAs are defined in the groundfish regulations at 50 CFR 660.70. It is unlawful for non-tribal commercial vessels operating in the directed halibut fishery in Area 2A to take and retain, possess (except for the purpose of continuous transit) or land halibut within the Florence YRCA. All fishing gear for targeting halibut must be stowed while transiting through the Florence YRCA when the closure is in effect. The closure is not in effect at this time.

(7) Heceta Bank YRCA. YRCAs are defined in the groundfish regulations at 50 CFR 660.70. It is unlawful for non-tribal commercial vessels operating in the directed halibut fishery in Area 2A to take and retain, possess (except for the purpose of continuous transit) or land halibut within the Heceta Bank YRCA. All fishing gear for targeting halibut must be stowed while transiting through the Heceta Bank YRCA when the closure is in effect.

(8) Nehalem Bank East Essential Fish Habitat Conservation Area (EFHCA). EFHCAs are defined in the groundfish regulations at 50 CFR 660.70. It is unlawful for non-tribal commercial vessels operating in the directed halibut fishery in Area 2A to take and retain, possess (except for the purpose of continuous transit) or land halibut within the Nehalem Bank East EFHCA. All fishing gear for targeting halibut must be stowed while transiting through the Nehalem Bank East EFCHA.

(9) Garibaldi Reef North EFHCA. EFHCAs are defined in the groundfish regulations at 50 CFR 660.70. It is unlawful for non-tribal commercial vessels operating in the directed halibut fishery in Area 2A to take and retain, possess (except for the purpose of continuous transit) or land halibut within the Garibaldi Reef North EFHCA. All fishing gear for targeting halibut must be stowed while transiting through the Garibaldi Reef North EFCHA.

(10) Garibaldi Reef South EFHCA. EFHCAs are defined in the groundfish regulations at 50 CFR 660.70. It is unlawful for non-tribal commercial vessels operating in the directed halibut fishery in Area 2A to take and retain, possess (except for the purpose of continuous transit) or land halibut within the Garibaldi Reef South EFHCA. All fishing gear for targeting halibut must be stowed while transiting through the Garibaldi Reef South EFCHA.

(11) Arago Reef West EFHCA. EFHCAs are defined in the groundfish regulations at 50 CFR 660.70. It is unlawful for non-tribal commercial vessels operating in the directed halibut fishery in Area 2A take and retain, possess (except for the purpose of continuous transit) or land halibut within the Arago Reef EFHCA. All fishing gear for targeting halibut must be stowed while transiting through the Arago Reef West EFCHA.

(12) Bandon High Spot East EFHCA. EFHCAs are defined in the groundfish regulations at 50 CFR 660.70. It is unlawful for non-tribal commercial vessels operating in the directed halibut fishery in Area 2A to take and retain, possess (except for the purpose of continuous transit) or land halibut within the Bandon High Spot East EFHCA. All fishing gear for targeting halibut must be stowed while transiting through the Bandon High Spot East EFCHA.

PART 660—FISHERIES OFF WEST COAST STATES

3. The authority citation for part 660 continues to read as follows:

Authority: 16 U.S.C. 1801 et seq., 16 U.S.C. 773 et seq., and 16 U.S.C. 7001 et seq.

Subpart C [Amended]

4. In subpart C of part 660, revise all references to “Cordell Banks” to read “Cordell Bank”.

5. Amend § 660.11 by:

a. Adding in alphabetical order, the definitions for “Artificial lure” and “Bait”;

b. In the definition for “Conservation area(s)”:

i. Revising paragraph (1) introductory text and paragraph (1)(i);

ii. Redesignating paragraphs (1)(vi) and (1)(vii) as (1)(vii) and (1)(viii);

iii. Adding new paragraph (1)(vi); and

c. Adding in alphabetical order the definition for “Weighted gear”.

The additions and revisions read as follows:

§ 660.11 General definitions.

* * * * *

Artificial lure means any manufactured or man-made non-scented/non-flavored (regardless if scent or flavor is added in the manufacturing process or added afterwards) device complete with hooks, intended to attract fish. Artificial lures include, but are not limited to: spoons, spinners, artificial flies, and plugs. Artificial lures are made of metal, plastic, wood, or other non-edible materials.

Bait (natural or artificial) means any substance which attracts fish. Natural bait includes any natural biological substance used to attract or catch fish (e.g., herring/fish eggs). Artificial bait includes any manufactured device used to attract or catch fish.

* * * * *

Conservation area(s) * * *

* * * * *

(1) Groundfish Conservation Area or GCA means a conservation area created or modified and enforced to control catch of groundfish or protected species. Regulations at § 660.60(c)(3) describe the various purposes for which NMFS may implement certain types of GCAs through routine management measures. Regulations at § 660.70 further describe and define coordinates for certain GCAs, including: Yelloweye Rockfish Conservation Areas; Cowcod Conservation Areas; Groundfish Exclusion Areas; waters encircling the Farallon Islands; and waters encircling the Cordell Bank. GCAs also include closures bounded by the EEZ or depth-based lines approximating depth contours, including Bycatch Reduction Areas or BRAs, or bounded by depth contours and lines of latitude, including Block Area Closures, or BACs, and Rockfish Conservation Areas, or RCAs, which may be closed to fishing with particular gear types. BRA, BAC, and RCA boundaries may change seasonally according to conservation needs. Regulations at §§ 660.71 through 660.74, and § 660.76 define depth-based boundary lines with latitude/longitude coordinates that may be used to enact depth-based closures. Regulations in this section describe commonly used geographic coordinates that define lines of latitude. Fishing prohibitions associated with GCAs are in addition to those associated with other conservation areas.

(i) Block Area Closures or BACs are bounded on the north and south by commonly used geographic coordinates defined in this section, and on the east and west by the EEZ, and boundary lines approximating depth contours, defined with latitude and longitude coordinates at §§ 660.71 through 660.74 (10 fm (18 m) through 250 fm (457 m)), and § 660.76 (700 fm (1,280 m)). BACs may be implemented or modified as routine management measures, per the provisions of § 660.60(c). BACs may be implemented to control catch of groundfish by vessels taking and retaining groundfish in the EEZ seaward of Washington, Oregon, and California for vessels using any gear type (trawl or non-trawl). BACs may be implemented to minimize bycatch of Chinook salmon and coho salmon by bottom trawl or midwater trawl vessels in the EEZ seaward of Oregon and California, and by midwater trawl vessels in the EEZ seaward of Washington, but shoreward of the boundary line approximating the 250 fm (457 m) depth contour as defined in § 660.74. BACs may vary in their geographic boundaries, duration, and the gears to which they apply. Their geographic boundaries, applicable gear type(s) and/or specific fishery program, and effective dates will be announced in the Federal Register. BACs may be implemented within tribal Usual and Accustomed fishing areas but may only apply to non-tribal vessels. BACs may have a specific termination date as described in the Federal Register, or may be in effect until modified. BACs that are in effect until modified by NMFS are set out in the trip limit tables of subparts D through F of this part.

* * * * *

(vi) Groundfish Exclusion Areas or GEAs are closed areas intended to mitigate potential impacts to sensitive environments from certain groundfish fishing activity. GEAs may prohibit fishing by certain groundfish sectors or certain groundfish gear types. Geographic coordinates for GEAs are defined at § 660.70.

* * * * *

Weighted gear means any fishing gear that is combined with an object intended to make the bait, lure or hook sink (e.g. lead or steel sinkers).

6. Amend § 660.12 by:

a. Redesignating paragraph (a)(19) as (20);

b. Adding new paragraph (a)(19); and

c. Adding new paragraph (a)(21).

The additions read as follows:

§ 660.12 General groundfish prohibitions.

* * * * *

(a) * * *

(19) Fish for, take and retain, possess (except for the purpose of continuous transiting) or land any species of groundfish with groundfish non-trawl bottom contact gear (defined at § 660.11) in the following EFHCAs: Arago Reef West, Bandon High Spot East, Garibaldi Reef North, Garibaldi Reef South, and Nehalem Bank East.

* * * * *

(21) Fish for, take and retain, possess (except for the purpose of continuous transiting) or land any species of groundfish in a Block Area Closure enacted under subparts C through F of this part.

* * * * *

7. Amend § 660.13 by:

a. Revising paragraph (d)(4)(iv) introductory paragraph;

b. Redesignating paragraphs (d)(4)(iv)(A)(30) through (37) as (d)(4)(iv)(A)(34) through (41); and

c. Adding new paragraphs (d)(4)(iv)(A)(30) through (33) to read as follows:

§ 660.13 Recordkeeping and reporting.

* * * * *

(d) * * *

(4) * * *

(iv) Declaration reports will include: The vessel name and/or identification number, gear type, and monitoring type where applicable, (as defined in paragraph (d)(4)(iv)(A) of this section). Upon receipt of a declaration report, NMFS will provide a confirmation code or receipt to confirm that a valid declaration report was received for the vessel. Retention of the confirmation code or receipt to verify that a valid declaration report was filed and the declaration requirement was met is the responsibility of the vessel owner or operator. Vessels using non-trawl gear may declare more than one gear type with the exception of vessels participating in the Shorebased IFQ Program (i.e., gear switching) and those vessels declaring to fish inside the Non-Trawl RCA with non-bottom contact stationary vertical jig gear or groundfish troll gear (i.e., if one of these declarations is used, no other declaration may be made on that fishing trip); however, vessels using trawl gear may only declare one of the trawl gear types listed in paragraph (d)(4)(iv)(A) of this section on any trip and may not declare non-trawl gear on the same trip in which trawl gear is declared.

(A) * * *

(30) Limited entry fixed gear non-bottom contact stationary vertical jig gear (allowed inside or outside the nontrawl RCA) (declaration code 12);

(31) Limited entry fixed gear non-bottom contact groundfish troll gear (allowed inside or outside the nontrawl RCA) (declaration code 13);

(32) Limited entry groundfish non-trawl, shorebased IFQ, non-bottom contact stationary vertical jig gear (allowed inside or outside the nontrawl RCA) (declaration code 14);

(33) Limited entry groundfish non-trawl, shorebased IFQ, non-bottom contact groundfish troll gear (allowed inside or outside the nontrawl RCA) (declaration code 15);

* * * * *

8. Amend § 660.14 by:

a. Revising paragraph (d)(4) introductory paragraph, and paragraphs (d)(4)(iii) through (vii); and

b. Adding paragraphs (d)(4)(viii) through (ix).

The revisions and additions read as follows:

§ 660.14 Vessel Monitoring System (VMS) Requirements.

* * * * *

(d) * * *

(4) VMS exemptions. A vessel that is required to operate and maintain the mobile transceiver unit continuously 24 hours a day throughout the fishing year may be exempted from this requirement if a valid exemption report, as described at paragraph (d)(4)(ix) of this section, is received by NMFS OLE and the vessel is in compliance with all conditions and requirements of the VMS exemption identified in this section and specified in the exemption report.

* * * * *

(iii) Permit exemption. If the limited entry permit had a change in vessel registration so that it is no longer registered to the vessel (for the purposes of this section, this includes permits placed into “unidentified” status), the vessel may be exempted from VMS requirements providing the vessel is not used in a fishery requiring VMS off the States of Washington, Oregon or California (0-200 nm offshore) for the remainder of the fishing year. If the vessel is used to fish in this area for any species of fish at any time during the remaining portion of the fishing year without being registered to a limited entry permit, the vessel is required to have and use VMS.

(iv) Long-term departure exemption. A vessel participating in the open access fishery that is required to have VMS under paragraph (b)(2) of this section may be exempted from VMS provisions after the end of the fishing year in which it used non-groundfish trawl gear, providing the vessel submits a completed exemption report signed by the vessel owner that includes a statement signed by the vessel owner indicating that the vessel will not use non-groundfish trawl gear to fish in the EEZ during the new fishing year. A vessel participating in the open access fishery that is required to have VMS under paragraph (b)(3) of this section also may be exempted from VMS provisions after the end of the fishing year in which it fished in the open access fishery, providing the vessel submits a completed exemption report signed by the vessel owner that includes a statement signed by the vessel owner indicating that the vessel will not be used to take and retain or possess groundfish in the EEZ or land groundfish taken in the EEZ during the new fishing year.

(v) Maintenance Exemption. When it is anticipated that a vessel will be without power or in a maintenance condition for more than 4 consecutive hours, preventing operation of the vessel's VMS unit, and if a valid exemption report has been received by NMFS OLE, electrical power to the VMS mobile transceiver unit may be removed and transmissions may be discontinued. Under this exemption, VMS transmissions can be discontinued from the time the vessel is in the maintenance condition until the time the maintenance is completed.

(vi) Sale of Vessel Exemption. When a new vessel owner purchases a vessel with VMS and does not intend to participate in an activity requiring VMS, but the previous vessel owner had not received a VMS exemption prior to the sale, VMS transmissions may be discontinued by the new vessel owner. Under this exemption, VMS transmissions can be discontinued indefinitely, upon purchase of the vessel, and no subsequent VMS transmissions will be required unless the new vessel owner engages in an activity requiring VMS.

(vii) Emergency exemption. Vessels required to have VMS under paragraph (b) of this section may be exempted from VMS provisions in emergency situations that are beyond the vessel owner's control, including but not limited to: Fire, flooding, or extensive physical damage to critical areas of the vessel. A vessel owner may apply for an emergency exemption from the VMS requirements specified in paragraph (b) of this section for his/her vessel by sending a written request to NMFS OLE specifying the following information: The reasons for seeking an exemption, including any supporting documents (e.g., repair invoices, photographs showing damage to the vessel, insurance claim forms, etc.); the time period for which the exemption is requested; and the location of the vessel while the exemption is in effect. NMFS OLE will issue a written determination granting or denying the emergency exemption request. A vessel will not be covered by the emergency exemption until NMFS OLE issues a determination granting the exemption. If an exemption is granted, the duration of the exemption will be specified in the NMFS OLE determination.

(viii) Submission of exemption reports. Signed long-term departure exemption reports must be submitted by fax or by emailing an electronic copy of the actual report. In the event of an emergency in which an emergency exemption request will be submitted, initial contact with NMFS OLE must be made by telephone, fax or email within 24 hours from when the incident occurred. Emergency exemption requests must be requested in writing within 72 hours from when the incident occurred. Maintenance exemption requests must include signed written documentation of the work being done and the name of the company doing the work, if applicable. Sale of Vessel exemption requests must include documentation of purchase of the vessel by the new owner. Other exemption reports must be submitted through the VMS or another method that is approved by NMFS OLE and announced in the Federal Register. Submission methods for exemption requests, except maintenance, sale of vessel, long-term departures and emergency exemption requests, may include email, facsimile, or telephone. NMFS OLE will provide, through appropriate media, instructions to the public on submitting exemption reports. Instructions and other information needed to make exemption reports may be mailed to the vessel owner's address of record. NMFS will bear no responsibility if a notification is sent to the address of record for the vessel owner and is not received because the vessel owner's actual address has changed without notification to NMFS. Owners of vessels required to use VMS who do not receive instructions by mail are responsible for contacting NMFS OLE during business hours at least 3 days before the exemption is required to be submitted to obtain information needed to make exemption reports. NMFS OLE must be contacted during business hours (Monday through Friday between 0800 and 1700 Pacific Time).

(ix) Valid exemption reports. For an exemption report to be valid, it must be received by NMFS at least 2 hours and not more than 24 hours before the exempted activities defined at paragraphs (d)(4)(i) through (vi) of this section occur. An exemption report is valid until NMFS receives a report canceling the exemption. An exemption cancellation must be received at least 2 hours before the vessel re-enters the EEZ following an outside areas exemption; at least 2 hours before the vessel is placed back in the water following a haul out exemption; at least 2 hours before the vessel operates following a maintenance exemption; at least 2 hours before the vessel resumes fishing for a species of fish or with gear requiring VMS in state or Federal waters off the States of Washington, Oregon, or California after it has received a permit exemption; or at least 2 hours before a vessel resumes fishing in the open access fishery after a long-term departure exemption. If a vessel is required to submit an activation report under paragraph (d)(2)(i) of this section before returning to fish, that report may substitute for the exemption cancellation. Initial contact must be made with NMFS OLE not more than 24 hours after the time that an emergency situation occurred in which VMS transmissions were disrupted and followed by a written emergency exemption request within 72 hours from when the incident occurred. If the emergency situation upon which an emergency exemption is based is resolved before the exemption expires, an exemption cancellation must be received by NMFS at least 2 hours before the vessel resumes fishing.

* * * * *

9. Amend § 660.60 by revising paragraphs (c)(3)(i) introductory paragraph, (c)(3)(i)(C), and (h)(7)(ii)(A) to read as follows:

§ 660.60 Specifications and management measures.

* * * * *

(c) * * *

(3) * * *

(i) Depth-based management measures. Depth-based management measures, particularly closed areas known as Groundfish Conservation Areas, defined in § 660.11, include RCAs, BRAs, and BACs, and may be implemented in any fishery sector and/or for any gear type that takes groundfish directly or incidentally. Depth-based management measures are set using specific boundary lines that approximate depth contours with latitude/longitude waypoints found at §§ 660.70 through 660.74 and 660.76 or the EEZ. Depth-based management measures and closed areas may be used for the following conservation objectives: To protect and rebuild overfished or rebuilding stocks; to prevent the overfishing of any groundfish species by minimizing the direct or incidental catch of that species; or to minimize the incidental harvest of any protected or prohibited species taken in the groundfish fishery. Depth-based management measures and closed areas may be used for the following economic objectives: To extend the fishing season; for the commercial fisheries, to minimize disruption of traditional fishing and marketing patterns; for the recreational fisheries, to spread the available catch over a large number of anglers; to discourage target fishing while allowing small incidental catches to be landed; and to allow small fisheries to operate outside the normal season.

* * * * *

(C) Block Area Closures. BACs, as defined at § 660.11, may be closed or reopened, in the EEZ off Washington, Oregon, and California, for vessels taking and retaining groundfish using any gear (trawl or non-trawl) in the EEZ consistent with the purposes described in this paragraph (c)(3)(i).

* * * * *

(h) * * *

(7) * * *

(ii) * * *

(A) Fishing in limited entry and open access fisheries with different trip limits. Open access trip limits apply to any fishing conducted with open access gear, even if the vessel has a valid limited entry permit with an endorsement for another type of gear. A vessel that fishes in both the open access and limited entry fisheries is not entitled to two separate trip limits for the same species. If a vessel has a limited entry permit registered to it at any time during the trip limit period and uses open access gear, but the open access limit is smaller than the limited entry limit, the open access limit may not be exceeded and counts toward the limited entry allocation as established under the biennial groundfish harvest specifications. If a vessel has a limited entry permit registered to it at any time during the trip limit period and uses open access gear, but the open access limit is larger than the limited entry limit, the smaller limited entry limit applies, even if taken entirely with open access gear. These provisions do not apply to:

(1) IFQ species (defined at § 660.140(c)) for vessels that are declared into the Shorebased IFQ Program (see § 660.13(d)(4)(iv)(A)) for valid Shorebased IFQ Program declarations).

(2) Vessels with a valid limited entry permit endorsed for longline and/or pot gear fishing inside the nontrawl RCA with stationary vertical jig gear or groundfish troll gear as defined at § 660.320(b)(6). Vessels fishing with one of these two approved hook-and-line gear configurations may fish up to the limited entry fixed gear trip limits in Table 2 (North) and Table 2 (South) of subpart E, either inside or outside the nontrawl RCA. This provision only applies on fishing trips where the vessel made the appropriate declaration (specified at § 660.13(d)(4)(iv)(A)).

* * * * *

10. Amend § 660.70 by revising paragraphs (g) through (q) and adding paragraphs (r) through (v) to read as follows:

§ 660.70 Groundfish Conservation areas.

* * * * *

(g) Tillamook YRCA. The Tillamook YRCA is an area off northern Oregon intended to protect yelloweye rockfish. The Tillamook YRCA is defined by straight lines connecting the following specific latitude and longitude coordinates in the order listed:

(1) 45°40.96′ N lat.; 124°27.52′ W long.;

(2) 45°40.96′ N lat.; 124°19.99′ W long.;

(3) 45°34.44′ N lat.; 124°14.48′ W long.;

(4) 45°31.93′ N lat.; 124°14.05′ W long.;

(5) 45°31.84′ N lat.; 124°22.04′ W long.;

(6) 45°36.95′ N lat.; 124°24.45′ W long.;

(7) 45°38.89′ N lat.; 124°25.92′ W long.; and connecting back to 45°40.96′ N lat.; 124°27.52′ W long.

(h) Newport YRCA. The Newport YRCA is an area off central Oregon intended to protect yelloweye rockfish. The Newport YRCA is defined by straight lines connecting the following specific latitude and longitude coordinates in the order listed:

(1) 44°46.00′ N lat.; 124°32.57′ W long.;

(2) 44°46.00′ N lat.; 124°32.00′ W long.;

(3) 44°42.00′ N lat.; 124°30.00′ W long.;

(4) 44°39.00′ N lat.; 124°30.00′ W long.;

(5) 44°39.00′ N lat.; 124°34.00′ W long.;

(6) 44°43.16′ N lat.; 124°34.00′ W long.;

(7) 44°44.54′ N lat.; 124°33.58′ W long.; and connecting back to 44°46.00′ N lat.; 124°32.57′ W long.

(i) Stonewall Bank Yelloweye Rockfish Conservation Area. The Stonewall Bank YRCA is an area off central Oregon, near Stonewall Bank, intended to protect yelloweye rockfish. The Stonewall Bank YRCA is defined by straight lines connecting the following specific latitude and longitude coordinates in the order listed:

(1) 44°37.46′ N lat.; 124°24.92′ W long.;

(2) 44°37.46′ N lat.; 124°23.63′ W long.;

(3) 44°28.71′ N lat.; 124°21.80′ W long.;

(4) 44°28.71′ N lat.; 124°24.10′ W long.;

(5) 44°31.42′ N lat.; 124°25.47′ W long.; and connecting back to 44°37.46′ N lat.; 124°24.92′ W long.

(j) Stonewall Bank Yelloweye Rockfish Conservation Area, Expansion 1. The Stonewall Bank Yelloweye Rockfish Conservation Area (YRCA) Expansion 1 is an area off central Oregon, near Stonewall Bank, intended to protect yelloweye rockfish. The Stonewall Bank YRCA Expansion 1 is defined by straight lines connecting the following specific latitude and longitude coordinates in the order listed:

(1) 44°41.76′ N lat.; 124°30.02′ W long.;

(2) 44°41.73′ N lat.; 124°21.60′ W long.;

(3) 44°25.25′ N lat.; 124°16.94′ W long.;

(4) 44°25.29′ N lat.; 124°30.14′ W long.;

(5) 44°41.76′ N lat.; 124°30.02′ W long.; and connecting back to 44°41.76′ N lat.; 124°30.02′ W long.

(k) Stonewall Bank Yelloweye Rockfish Conservation Area, Expansion 2. The Stonewall Bank Yelloweye Rockfish Conservation Area (YRCA) Expansion 2 is an area off central Oregon, near Stonewall Bank, intended to protect yelloweye rockfish. The Stonewall Bank YRCA Expansion 2 is defined by straight lines connecting the following specific latitude and longitude coordinates in the order listed:

(1) 44°38.54′ N lat.; 124°27.41′ W long.;

(2) 44°38.54′ N lat.; 124°23.86′ W long.;

(3) 44°27.13′ N lat.; 124°21.50′ W long.;

(4) 44°27.13′ N lat.; 124°26.89′ W long.;

(5) 44°31.30′ N lat.; 124°28.35′ W long.; and connecting back to 44°38.54′ N lat.; 124°27.41′ W long.

(l) Florence YRCA. The Florence YRCA is an area off central Oregon intended to protect yelloweye rockfish. The Florence YRCA is defined by straight lines connecting the following specific latitude and longitude coordinates in order listed:

(1) 44°30.04′ N lat.; 124°42.31′ W long.;

(2) 44°30.19′ N lat.; 124°40.46′ W long.;

(3) 44°25.00′ N lat.; 124°37.00′ W long.;

(4) 44°25.00′ N lat.; 124°45.00′ W long.;

(5) 44°26.71′ N lat.; 124°45.00′ W long.; and connecting back to 44°30.04′ N lat.; 124°42.31′ W long.

(m)Heceta Bank YRCA. The Heceta Bank YRCA is an area off central Oregon intended to protect yelloweye rockfish. The Heceta Bank YRCA is defined by straight lines connecting the following specific latitude and longitude coordinates in order listed:

(1) 44°16.28′ N lat., 124°47.86′ W long.;

(2) 44°15.38′ N lat., 124°49.86′ W long.;

(3) 44°14.49′ N lat., 124°51.82′ W long.;

(4) 44°14.01′ N lat., 124°52.88′ W long.;

(5) 44°13.47′ N lat., 124°54.08′ W long.;

(6) 44°12.72′ N lat., 124°54.07′ W long.;

(7) 44°11.53′ N lat., 124°54.06′ W long.;

(8) 44°08.72′ N lat., 124°54.02′ W long.;

(9) 44°06.68′ N lat., 124°54.00′ W long.;

(10) 44°05.34′ N lat., 124°53.10′ W long.;

(11) 44°02.88′ N lat., 124°53.96′ W long.;

(12) 44°02.18′ N lat., 124°54.29′ W long.;

(13) 44°00.14′ N lat., 124°55.25′ W long.;

(14) 43°58.36′ N lat., 124°55.42′ W long.;

(15) 43°57.68′ N lat., 124°55.48′ W long.;

(16) 43°56.66′ N lat., 124°55.45′ W long.;

(17) 43°56.65′ N lat., 124°55.49′ W long.;

(18) 43°56.64′ N lat., 124°56.53′ W long.;

(19) 43°56.74′ N lat., 124°56.74′ W long.;

(20) 43°59.18′ N lat., 124°56.94′ W long.;

(21) 44°00.45′ N lat., 124°56.35′ W long.;

(22) 44°02.34′ N lat., 124°55.49′ W long.;

(23) 44°04.81′ N lat., 124°55.65′ W long.;

(24) 44°06.45′ N lat., 124°55.78′ W long.;

(25) 44°08.47′ N lat., 124°55.93′ W long.;

(26) 44°09.85′ N lat., 124°56.04′ W long.;

(27) 44°11.34′ N lat., 124°56.16′ W long.;

(28) 44°12.92′ N lat., 124°56.28′ W long.;

(29) 44°14.06′ N lat., 124°55.10′ W long.;

(30) 44°15.32′ N lat., 124°53.79′ W long.;

(31) 44°16.90′ N lat., 124°52.16′ W long.;

(32) 44°16.96′ N lat., 124°52.11′ W long.;

(33) 44°16.96′ N lat., 124°51.95′ W long.;

(34) 44°17.02′ N lat., 124°48.02′ W long.;

(35) 44°17.02′ N lat., 124°47.47′ W long.; and connecting back to 44°16.28′ N lat., 124°47.86′ W long.

(n) Point St. George YRCA. The Point St. George YRCA is an area off the northern California coast, northwest of Point St. George, intended to protect yelloweye rockfish. The Point St. George YRCA is defined by straight lines connecting the following specific latitude and longitude coordinates in the order listed:

(1) 41°51.00′ N lat., 124°23.75′ W long.;

(2) 41°51.00′ N lat., 124°20.75′ W long.;

(3) 41°48.00′ N lat., 124°20.75′ W long.;

(4) 41°48.00′ N lat., 124°23.75′ W long.; and connecting back to 41°51.00′ N lat., 124°23.75′ W long.

(o) South Reef YRCA. The South Reef YRCA is an area off the northern California coast, southwest of Crescent City, intended to protect yelloweye rockfish. The South Reef YRCA is defined by straight lines connecting the following specific latitude and longitude coordinates in the order listed:

(1) 41°42.20′ N lat., 124°16.00′ W long.;

(2) 41°42.20′ N lat., 124°13.80′ W long.;

(3) 41°40.50′ N lat., 124°13.80′ W long.;

(4) 41°40.50′ N lat., 124°16.00′ W long.; and connecting back to 41°42.20′ N lat., 124°16.00′ W long.

(p) Reading Rock YRCA. The Reading Rock YRCA is an area off the northern California coast, between Crescent City and Eureka, intended to protect yelloweye rockfish. The Reading Rock YRCA is defined by straight lines connecting the following specific latitude and longitude coordinates in the order listed:

(1) 41°21.50′ N lat., 124°12.00′ W long.;

(2) 41°21.50′ N lat., 124°10.00′ W long.;

(3) 41°20.00′ N lat., 124°10.00′ W long.;

(4) 41°20.00′ N lat., 124°12.00′ W long.; and connecting back to 41°21.50′ N lat., 124°12.00′ W long.

(q) Point Delgada YRCAs. The Point Delgada YRCAs are two areas off the northern California coast, south of Point Delgada and Shelter Cove, intended to protect yelloweye rockfish. The Northern Point Delgada YRCA is defined by straight lines connecting the following specific latitude and longitude coordinates in the order listed:

(1) 39°59.00′ N lat., 124°05.00′ W long.;

(2) 39°59.00′ N lat., 124°03.00′ W long.;

(3) 39°57.00′ N lat., 124°03.00′ W long.;

(4) 39°57.00′ N lat., 124°05.00′ W long.; and connecting back to 39°59.00′ N lat., 124°05.00′ W long.

(r) Southern Point Delgada YRCA. The Southern Point Delgada YRCA is defined by straight lines connecting the following specific latitude and longitude coordinates in the order listed:

(1) 39°57.00′ N lat., 124°05.00′ W long.;

(2) 39°57.00′ N lat., 124°02.00′ W long.;

(3) 39°54.00′ N lat., 124°02.00′ W long.;

(4) 39°54.00′ N lat., 124°05.00′ W long.; and connecting back to 39°57.00′ N lat., 124°05.00′ W long.

(s) Cowcod Conservation Areas. The Cowcod Conservation Areas (CCAs) are two areas off the southern California coast intended to protect cowcod.

(1) Western CCA. The Western CCA is an area south of Point Conception defined by the straight lines connecting the following specific latitude and longitude coordinates in the order listed and connecting back to 33°50.00′ N lat., 119°30.00′ W long.:

(i) 33°50.00′ N lat., 119°30.00′ W long.;

(ii) 33°50.00′ N lat., 118°50.00′ W long.;

(iii) 32°20.00′ N lat., 118°50.00′ W long.;

(iv) 32°20.00′ N lat., 119°37.00′ W long.;

(v) 33°00.00′ N lat., 119°37.00′ W long.;

(vi) 33°00.00′ N lat., 119°53.00′ W long.;

(vii) 33°33.00′ N lat., 119°53.00′ W long.; and

(viii) 33°33.00′ N lat., 119°30.00′ W long.

(2) Transit corridor. The Western CCA transit corridor is bounded on the north by the latitude line at 33°00.50′ N lat., and bounded on the south by the latitude line at 32°59.50′ N lat.

(3) Eastern CCA. The Eastern CCA is an area west of San Diego defined by the straight lines connecting the following specific latitude and longitude coordinates in the order listed and connecting back to 32°42.00′ N lat., 118°02.00′ W long.:

(i) 32°42.00′ N lat., 118°02.00′ W long.;

(ii) 32°42.00′ N lat., 117°50.00′ W long.;

(iii) 32°36.70′ N lat., 117°50.00′ W long.;

(iv) 32°30.00′ N lat., 117°53.50′ W long.; and

(v) 32°30.00′ N lat., 118°02.00′ W long.

(t) Groundfish Exclusion Areas. The Groundfish Exclusion Areas (GEAs) are eight areas south of Point Conception intended to protect sensitive areas, including areas with coral and sea pens.

(1) Hidden Reef. The Hidden Reef GEA is defined by the straight lines connecting the following specific latitude and longitude coordinates in the order listed and connecting back to 33°46.14′ N lat., 119°10.45′ W long.:

(i) 33°46.14′ N lat., 119°10.45′ W long.;

(ii) 33°46.14′ N lat., 119°05.96′ W long.;

(iii) 33°41.40′ N lat., 119°05.96′ W long.; and

(iv) 33°41.40′ N lat., 119°10.45′ W long.

(2) West of Santa Barbara Island. The West of Santa Barbara Island GEA is defined by the straight lines connecting the following specific latitude and longitude coordinates in the order listed and connecting back to 33°33.64′ N lat., 119°18.54′ W long.:

(i) 33°33.64′ N lat., 119°18.54′ W long.;

(ii) 33°33.64′ N lat., 119°07.57′ W long.;

(iii) 33°27.90′ N lat., 119°07.57′ W long; and

(iv) 33°27.90′ N lat., 119°18.54′ W long.

(3) Potato Bank. The Potato Bank GEA is defined by the straight lines connecting the following specific latitude and longitude coordinates in the order listed and connecting back to 33°21.00′ N lat., 119°53.00′ W long.:

(i) 33°21.00′ N lat., 119°53.00′ W long.;

(ii) 33°21.00′ N lat., 119°45.67′ W long.;

(iii) 33°11.00′ N lat., 119°45.67′ W long.; and

(iv) 33°11.00′ N lat., 119°53.00′ W long.

(4) 107/118 Bank. The 107/118 Bank GEA is defined by the straight lines connecting the following specific latitude and longitude coordinates in the order listed and connecting back to 33°05.51′ N lat., 119°41.29′ W long.:

(i) 33°05.51′ N lat., 119°41.29′ W long.;

(ii) 33°08.64′ N lat., 119°36.71′ W long.;

(iii) 33°03.50′ N lat., 119°31.69′ W long.; and

(iv) 33°00.36′ N lat., 119°36.27′ W long.

(5) Cherry Bank. The Cherry Bank GEA is defined by the straight lines connecting the following specific latitude and longitude coordinates in the order listed and connecting back to 32°50.86′ N lat., 119°29.40′ W long.:

(i) 32°50.86′ N lat., 119°29.40′ W long.;

(ii) 32°56.96′ N lat., 119°19.82′ W long.;

(iii) 32°54.69′ N lat., 119°17.78′ W long.; and

(iv) 32°48.59′ N lat., 119°27.35′ W long.

(6) Seamount 109. The Seamount 109 GEA is defined by the straight lines connecting the following specific latitude and longitude coordinates in the order listed and connecting back to 32°43.75′ N lat., 119°37.00′ W long.:

(i) 32°43.75′ N lat., 119°37.00′ W long.;

(ii) 32°43.75′ N lat., 119°34.29′ W long.;

(iii) 32°31.95′ N lat., 119°26.94′ W long.;

(iv) 32°30.47′ N lat., 119°29.71′ W long.; and

(v) 32°39.54′ N lat., 119°37.00′ W long.

(7) 43-Fathom Spot. The 43-Fathom Spot GEA is defined by the straight lines connecting the following specific latitude and longitude coordinates in the order listed and connecting back to 32°42.00′ N lat., 118°00.05′ W long.:

(i) 32°42.00′ N lat., 118°00.05′ W long.;

(ii) 32°42.00′ N lat., 117°50.00′ W long.;

(iii) 32°36.70′ N lat., 117°50.00′ W long.;

(iv) 32°36.18′ N lat., 117°50.27′ W long.; and

(v) 32°36.18′ N lat., 118°00.05′ W long.

(8) Northeast Bank. The Northeast Bank GEA is defined by the straight lines connecting the following specific latitude and longitude coordinates in the order listed and connecting back to 32°27.39′ N lat., 119°37.00′ W long.:

(i) 32°27.39′ N lat., 119°37.00′ W long.;

(ii) 32°27.39′ N lat., 119°31.60′ W long.;

(iii) 32°20.00′ N lat., 119°31.60′ W long.; and

(iv) 32°20.00′ N lat., 119°37.00′ W long.

(u) Farallon Islands. The Farallon Islands, off San Francisco and San Mateo Counties, include Southeast Farallon Island, Middle Farallon Island, North Farallon Island and Noon Day Rock. Generally, the State of California prohibits fishing for groundfish between the shoreline and the 10-fm (18-m) depth contour around the Farallon Islands.

(v) Cordell Bank. Cordell Bank is located offshore of California's Marin County. Generally, fishing for groundfish is prohibited within Cordell Bank as defined by specific latitude and longitude coordinates. The Cordell Bank closed area is defined by straight lines connecting the following specific latitude and longitude coordinates in the order listed:

(1) 38°03.18′ N lat., 123°20.77′ W long.;

(2) 38°06.29′ N lat., 123°25.03′ W long.;

(3) 38°06.34′ N lat., 123°29.32′ W long.;

(4) 38°04.57′ N lat., 123°31.30′ W long.;

(5) 38°02.32′ N lat., 123°31.07′ W long.;

(6) 38°00.00′ N lat., 123°28.40′ W long.;

(7) 37°58.10′ N lat., 123°26.66′ W long.;

(8) 37°55.07′ N lat., 123°26.81′ W long.;

(9) 38°00.00′ N lat., 123°23.08′ W long.; and connecting back to 38°03.18′ N lat., 123°20.77′ W long.

11. Amend § 660.72 by:

a. Redesignating paragraphs (j) through (m) as (r) through (u);

b. Redesignating paragraphs (f) through (i) as (j) through (m);

c. Adding new paragraphs (f) through (i);

d. Adding paragraphs (n) through (q);

e. Revising newly redesignated paragraphs (r)(139) through (142) and (186);

f. Adding new paragraphs (v) through (y).

The revisions and additions read as follows:

§ 660.72 Latitude/longitude coordinates defining the 50 fm (91 m) through 75 fm (137 m) depth contours.

* * * * *

(f) The 50 fm (91 m) depth contour around Santa Barbara Island off the State of California is defined by straight lines connecting all of the following points in the order stated:

(1) 33°31.77′ N lat., 119°3.41′ W long.;

(2) 33°29.66′ N lat., 119°5.86′ W long.;

(3) 33°26.94′ N lat., 119°2.95′ W long.;

(4) 33°27.08′ N lat., 119°0.51′ W long.;

(5) 33°28.82′ N lat., 118°59.42′ W long.;

(6) 33°30.67′ N lat., 119°0.88′ W long.; and

(7) 33°31.77′ N lat., 119°3.41′ W long.

(g) The 50 fm (91 m) depth contour around Tanner Bank off the State of California is defined by straight lines connecting all of the following points in the order stated:

(1) 32°45.53′ N lat., 119°13.28′ W long.;

(2) 32°43.98′ N lat., 119°15.05′ W long.;

(3) 32°38.45′ N lat., 119°4.92′ W long.;

(4) 32°41.44′ N lat., 119°3.71′ W long.;

(5) 32°45.02′ N lat., 119°11.08′ W long.; and

(6) 32°45.53′ N lat., 119°13.28′ W long.

(h) The 50 fm (91 m) depth contour around San Nicholas Island off the State of California is defined by straight lines connecting all of the following points in the order stated:

(1) 33°22.14′ N lat., 119°42.12′ W long.;

(2) 33°17.68′ N lat., 119°43.24′ W long.;

(3) 33°15.29′ N lat., 119°39.32′ W long.;

(4) 33°11.98′ N lat., 119°29.64′ W long.;

(5) 33°11.6′ N lat., 119°27.26′ W long.;

(6) 33°12.99′ N lat., 119°16.36′ W long.;

(7) 33°14.43′ N lat., 119°17.42′ W long.;

(8) 33°17.2′ N lat., 119°23.16′ W long.;

(9) 33°20.73′ N lat., 119° 27.33′ W long.; and

(10) 33° 22.14′ N lat., 119°42.12′ W long.

(i) The 50 fm (91 m) depth contour around Cortes Bank off the State of California is defined by straight lines connecting all of the following points in the order stated:

(1) 32°35.89′ N lat., 119°18.39′ W long.;

(2) 32°31.93′ N lat., 119°20.54′ W long.;

(3) 32°29.47′ N lat., 119°14.81′ W long.;

(4) 32°28.14′ N lat., 119°14.94′ W long.;

(5) 32°24.37′ N lat., 119°3.69′ W long.;

(6) 32°24.5′ N lat., 119°0.52′ W long.;

(7) 32°26.04′ N lat., 119°0.46′ W long.; and

(8) 32°35.89′ N lat., 119°18.39′ W long.

* * * * *

(n) The 60 fm (110 m) depth contour around Santa Barbara Island off the State of California is defined by straight lines connecting all of the following points in the order stated:

(1) 33°32.34′ N lat., 119°3.85′ W long.;

(2) 33°28.79′ N lat., 119°6.76′ W long.;

(3) 33°26.46′ N lat., 119°3.12′ W long.;

(4) 33°27.08′ N lat., 119°0.37′ W long.;

(5) 33°28.86′ N lat., 118°59.31′ W long.;

(6) 33°30.82′ N lat., 119° 0.97′ W long.; and

(7) 33°32.34′ N lat., 119°3.85′ W long.

(o) The 60 fm (91 m) depth contour around Tanner Bank off the State of California is defined by straight lines connecting all of the following points in the order stated:

(1) 32°45.65′ N lat., 119°13.29′ W long.;

(2) 32°44.21′ N lat., 119°15.68′ W long.;

(3) 32°37.4′ N lat., 119°4.89′ W long.;

(4) 32°41.42′ N lat., 119°3.32′ W long.;

(5) 32°45.66′ N lat., 119°12.1′ W long.; and

(6) 32°45.65′ N lat., 119°13.29′ W long.

(p) The 60 fm (110 m) depth contour around San Nicholas Island off the State of California is defined by straight lines connecting all of the following points in the order stated:

(1) 33°26.41′ N lat., 119°39.84′ W long.;

(2) 33°22.94′ N lat., 119°47.34′ W long.;

(3) 33°16.39′ N lat., 119°42.64′ W long.;

(4) 33°11.86′ N lat., 119°29.61′ W long.;

(5) 33°11.52′ N lat., 119°27.25′ W long.;

(6) 33°12.97′ N lat., 119°16.3′ W long.;

(7) 33°14.48′ N lat., 119°17.42′ W long.;

(8) 33°17.23′ N lat., 119°23.14′ W long.;

(9) 33°21.21′ N lat., 119°27.84′ W long.;

(10) 33°22.65′ N lat., 119°34.31′ W long.; and

(11) 33°26.41′ N lat., 119°39.84′ W long.

(q) The 60 fm (110 m) depth contour around Cortes Bank off the State of California is defined by straight lines connecting all of the following points in the order stated:

(1) 32°36.79′ N lat., 119°18.81′ W long.;

(2) 32°31.94′ N lat., 119°20.75′ W long.;

(3) 32°29.5′ N lat., 119°15′ W long.;

(4) 32°27.95′ N lat., 119°15.12′ W long.;

(5) 32°24.03′ N lat., 119°3.72′ W long.;

(6) 32°24.46′ N lat., 118°59.56′ W long.;

(7) 32°25.42′ N lat., 118°59.42′ W long.;

(8) 32°27.41′ N lat., 119°1.99′ W long.; and

(9) 32°36.79′ N lat., 119°18.81′ W long.

(r) * * *

(139) 38°04.16′ N lat., 123°19.05′ W long.;

(140) 38°03.18′ N lat., 123°20.77′ W long.;

(141) 38°00.00′ N lat., 123°23.08′ W long.;

(142) 37°55.07′ N lat., 123°26.81′ W long.;

* * * * *

(186) 36°10.28′ N lat., 121°43.06′ W long.;

* * * * *

(v) The 75 fm (137 m) depth contour around Santa Barbara Island off the State of California is defined by straight lines connecting all of the following points in the order stated:

(1) 33°33.58′ N lat., 119°4.84′ W long.;

(2) 33°33.2′ N lat., 119°5.37′ W long.;

(3) 33°31.75′ N lat., 119°4.61′ W long.;

(4) 33°28.67′ N lat., 119°7.06′ W long.;

(5) 33°26.38′ N lat., 119°3.24′ W long.;

(6) 33°27.08′ N lat., 119°0.26′ W long.;

(7) 33°28.85′ N lat., 118°59.21′ W long.;

(8) 33°30.85′ N lat., 119°0.94′ W long.;

(9) 33°31.91′ N lat., 119°2.98′ W long.; and

(10) 33°33.58′ N lat., 119°4.84′ W long.

(w) The 75 fm (137 m) depth contour around Tanner Bank off the State of California is defined by straight lines connecting all of the following points in the order stated:

(1) 32°45.66′ N lat., 119°14.45′ W long.;

(2) 32°44.19′ N lat., 119°15.9′ W long.;

(3) 32°37.02′ N lat., 119°4.65′ W long.;

(4) 32°41.45′ N lat., 119°3.14′ W long.;

(5) 32°45.77′ N lat., 119°11.93′ W long.; and

(6) 32°45.66′ N lat., 119°14.45′ W long.

(x) The 75 fm (137 m) depth contour around San Nicholas Island off the State of California is defined by straight lines connecting all of the following points in the order stated:

(1) 33°30.94′ N lat., 119°45.06′ W long.;

(2) 33°28.59′ N lat., 119° 52.02′ W long.;

(3) 33°16.05′ N lat., 119°43.86′ W long.;

(4) 33°15.2′ N lat., 119°39.36′ W long.;

(5) 33°11.71′ N lat., 119°29.48′ W long.;

(6) 33°11.39′ N lat., 119°26.58′ W long.;

(7) 33°12.96′ N lat., 119°16.23′ W long.;

(8) 33°14.52′ N lat., 119°17.42′ W long.;

(9) 33°17.24′ N lat., 119°23.09′ W long.;

(10) 33°21.24′ N lat., 119°27.83′ W long.;

(11) 33°22.71′ N lat., 119°33.54′ W long.; and

(12) 33°30.94′ N lat., 119°45.06′ W long.

(y) The 75 fm (137 m) depth contour around Cortes Bank off the State of California is defined by straight lines connecting all of the following points in the order stated:

(1) 32°37.38′ N lat., 119°19.45′ W long.;

(2) 32°31.9′ N lat., 119°20.9′ W long.;

(3) 32°29.52′ N lat.; 119°15.94′ W long.;

(4) 32°29.64′ N lat.; 119°15.4′ W long.;

(5) 32°29.24′ N lat.; 119°15.09′ W long.;

(6) 32°27.82′ N lat., 119°15.3′ W long.;

(7) 32°23.85′ N lat., 119°3.95′ W long.;

(8) 32°24.53′ N lat., 118°58.2′ W long.;

(9) 32°27.1′ N lat., 119°1.2′ W long.; and

(10) 32°37.38′ N lat., 119°19.45′ W long.

12. Amend § 660.73 by:

a. Redesignating paragraphs (i) through (m) as (p) through (t);

b. Redesignating paragraphs (e) through (h) as (i) through (l);

c. Adding new paragraphs (e) through (h);

d. Adding new paragraphs (m) through (o); and

e. Adding new paragraphs (u) through (y).

The revisions and additions read as follows:

§ 660.73 Latitude/longitude coordinates defining the 100 fm (183 m) through 150 fm (274 m) depth contours.

* * * * *

(e) The 100 fm (183 m) depth contour around Santa Barbara Island off the State of California is defined by straight lines connecting all of the following points in the order stated:

(1) 33°33.85′ N lat., 119°4.87′ W long.;

(2) 33°33.27′ N lat., 119°5.67′ W long.;

(3) 33°31.9′ N lat., 119°5.08′ W long.;

(4) 33°28.62′ N lat., 119°7.28′ W long.;

(5) 33°27.04′ N lat., 119°5.84′ W long.;

(6) 33°26.2′ N lat., 119°3.24′ W long.;

(7) 33°27.07′ N lat., 118°59.96′ W long.;

(8) 33°28.7′ N lat., 118°58.76′ W long.;

(9) 33°31′ N lat., 119°1.02′ W long.;

(10) 33°31.99′ N lat., 119°2.86′ W long.; and

(11) 33°33.85′ N lat., 119°4.87′ W long.

(f) The 100 fm (183 m) depth contour around Tanner Bank off the State of California is defined by straight lines connecting all of the following points in the order stated:

(1) 32°45.92′ N lat., 119°14.6′ W long.;

(2) 32°44.34′ N lat., 119°16.43′ W long.;

(3) 32°36.75′ N lat., 119°4.51′ W long.;

(4) 32°41.41′ N lat., 119°2.93′ W long.;

(5) 32° 45.85′ N lat., 119°10.62′ W long.; and

(6) 32° 45.92′ N lat., 119°14.6′ W long.

(g) The 100 fm (183 m) depth contour around San Nicholas Island off the State of California is defined by straight lines connecting all of the following points in the order stated:

(1) 33°31.37′ N lat., 119°44.84′ W long.;

(2) 33°28.82′ N lat., 119°52.19′ W long.;

(3) 33°25.43′ N lat., 119°51.27′ W long.;

(4) 33°18.01′ N lat., 119°47.18′ W long.;

(5) 33°15.8′ N lat., 119°43.64′ W long.;

(6) 33°14.22′ N lat., 119°37′ W long.;

(7) 33°11.56′ N lat., 119°29.58′ W long.;

(8) 33°11.28′ N lat., 119°26.54′ W long.;

(9) 33°12.94′ N lat., 119°15.86′ W long.;

(10) 33°14.48′ N lat., 119°16.97′ W long.;

(11) 33°17.33′ N lat., 119°22.93′ W long.;

(12) 33°21.28′ lat., 119°27.66′ W long.;

(13) 33°23.38′ N lat., 119°33.29′ W long.; and

(14) 33°31.37′ N lat., 119°44.84′ W long.

(h) The 100 fm (183 m) depth contour around Cortes Bank off the State of California is defined by straight lines connecting all of the following points in the order stated:

(1) 32°37.79′ N lat., 119°19.68′ W long.;

(2) 32°36.19′ N lat., 119°21.84′ W long.;

(3) 32°33.16′ N lat., 119°21.76′ W long.;

(4) 32°30.92′ N lat., 119°20.46′ W long.;

(5) 32°29.25′ N lat., 119°15.93′ W long.;

(6) 32°29.44′ N lat., 119°15.44′ W long.;

(7) 32°29.23′ N lat., 119°15.23′ W long.;

(8) 32°27.48′ N lat., 119°15.56′ W long.;

(9) 32°23.19′ N lat., 119°3.23′ W long.;

(10) 32°22.94′ N lat., 118°57.58′ W long.;

(11) 32°24.47′ N lat., 118°57.61′ W long.;

(12) 32°27.3′ N lat., 119°1.06′ W long.; and

(13) 32°37.79′ N lat., 119°19.68′ W long.

* * * * *

(m) The 125 fm (229 m) depth contour around Santa Barbara Island off the State of California is defined by straight lines connecting all of the following points in the order stated:

(1) 33°33.96′ N lat., 119°4.88′ W long.;

(2) 33°33.28′ N lat., 119°5.88′ W long.;

(3) 33°30.98′ N lat., 119°6.32′ W long.;

(4) 33°28.52′ N lat., 119°7.7′ W long.;

(5) 33°26.93′ N lat., 119°5.94′ W long.;

(6) 33°25.96′ N lat., 119°3.34′ W long.;

(7) 33°27.01′ N lat., 118°59.73′ W long.;

(8) 33°28.68′ N lat., 118°58.43′ W long.;

(9) 33°31.2′ N lat., 119°1.09′ W long.;

(10) 33°32.04′ N lat., 119° 2.77′ W long.; and

(11) 33°33.96′ N lat., 119° 4.88′ W long.

(n) The 125 fm (229 m) depth contour around Tanner Bank and Cortes Bank off the State of California is defined by straight lines connecting all of the following points in the order stated:

(1) 32°46.01′ N lat., 119°14.63′ W long.;

(2) 32°44.35′ N lat., 119°16.58′ W long.;

(3) 32°40.85′ N lat., 119°11.61′ W long.;

(4) 32°38.93′ N lat., 119°11.9′ W long.;

(5) 32°41.32′ N lat., 119°18.11′ W long.;

(6) 32°36.16′ N lat., 119°22.16′ W long.;

(7) 32°33.09′ N lat., 119°21.89′ W long.;

(8) 32°30.73′ N lat., 119°20.43′ W long.;

(9) 32°28.94′ N lat., 119°15.4′ W long.;

(10) 32°27.46′ N lat., 119°15.62′ W long.;

(11) 32°24.58′ N lat., 119°9.83′ W long.;

(12) 32°22.97′ N lat., 119°3′ W long.;

(13) 32°22.03′ N lat., 118°56.26′ W long.;

(14) 32°24.63′ N lat., 118°57.54′ W long.;

(15) 32°34.72′ N lat., 119°10.24′ W long.;

(16) 32°37.93′ N lat., 119°7.88′ W long.;

(17) 32°36.55′ N lat., 119°4.42′ W long.;

(18) 32°41.5′ N lat., 119°2.65′ W long.;

(19) 32°45.98′ N lat., 119°10.71′ W long.; and

(20) 32°46.01′ N lat., 119°14.63′ W long.

(o) The 125 fm (229 m) depth contour around San Nicholas Island off the State of California is defined by straight lines connecting all of the following points in the order stated:

(1) 33°31.65′ N lat., 119°44.84′ W long.;

(2) 33°28.91′ N lat., 119°52.35′ W long.;

(3) 33°25.39′ N lat., 119°51.44′ W long.;

(4) 33°17.94′ N lat., 119°47.31′ W long.;

(5) 33°15.33′ N lat., 119°43.4′ W long.;

(6) 33°14.03′ N lat., 119°37.02′ W long.;

(7) 33°11.49′ N lat., 119°29.58′ W long.;

(8) 33°11.21′ N lat., 119°26.46′ W long.;

(9) 33°12.9′ N lat., 119°15.74′ W long.;

(10) 33°14.51′ N lat., 119°14.92′ W long.;

(11) 33°14.76′ N lat., 119°17.07′ W long.;

(12) 33°17.44′ N lat., 119°22.82′ W long.;

(13) 33°21.37′ N lat., 119°27.53′ W long.;

(14) 33°23.44′ N lat., 119°33.11′ W long.; and

(15) 33°31.65′ N lat., 119°44.84′ W long.

* * * * *

(u) The 150 fm (274 m) depth contour around Santa Barbara Island off the State of California is defined by straight lines connecting all of the following points in the order stated:

(1) 33°34.6′ N lat., 119°4.57′ W long.;

(2) 33°33.13′ N lat., 119°6.65′ W long.;

(3) 33°28.13′ N lat., 119°8.17′ W long.;

(4) 33°25.55′ N lat., 119°3.64′ W long.;

(5) 33°26.96′ N lat., 118°59.58′ W long.;

(6) 33°28.68′ N lat., 118°58.24′ W long.; and (7) 33°34.6′ N lat., 119°4.57′ W long.;

(v) The 150 fm (274 m) depth contour around Tanner Bank and Cortes Bank off the State of California is defined by straight lines connecting all of the following points in the order stated:

(1) 32°46.12′ N lat., 119°14.73′ W long.;

(2) 32°44.37′ N lat., 119°16.82′ W long.;

(3) 32°41.02′ N lat., 119°12.01′ W long.;

(4) 32°39.28′ N lat., 119°12.18′ W long.;

(5) 32°41.46′ N lat., 119°18.28′ W long.;

(6) 32°36.17′ N lat., 119°22.31′ W long.;

(7) 32°32.97′ N lat., 119°22.31′ W long.;

(8) 32°30.57′ N lat., 119°20.54′ W long.;

(9) 32°28.94′ N lat., 119°15.53′ W long.;

(10) 32°27.45′ N lat., 119°15.79′ W long.;

(11) 32°24.86′ N lat., 119°12.93′ W long.;

(12) 32°21.43′ N lat., 118°55.1′ W long.;

(13) 32°24.67′ N lat., 118°57.37′ W long.;

(14) 32°34.34′ N lat., 119°9.28′ W long.;

(15) 32°37.39′ N lat., 119°7.54′ W long.;

(16) 32°36.38′ N lat., 119°4.32′ W long.;

(17) 32°41.59′ N lat., 119°2.46′ W long.;

(18) 32°46.07′ N lat., 119°10.68′ W long.; and

(19) 32°46.12′ N lat., 119°14.73′ W long.

(w) The 150 fm (274 m) depth contour around San Nicholas Island off the State of California is defined by straight lines connecting all of the following points in the order stated:

(1) 33°33.22′ N lat., 119°46.7′ W long.;

(2) 33°28.97′ N lat., 119°53.04′ W long.;

(3) 33°24.67′ N lat., 119°51.27′ W long.;

(4) 33°19.95′ N lat., 119°50.23′ W long.;

(5) 33°13.07′ N lat., 119°41.99′ W long.;

(6) 33°13.1′ N lat., 119°34.66′ W long.;

(7) 33°11.45′ N lat., 119°29.57′ W long.;

(8) 33°11.13′ N lat., 119°26.22′ W long.;

(9) 33°11.8′ N lat., 119°20.64′ W long.;

(10) 33°12.91′ N lat., 119°15.53′ W long.;

(11) 33°14.52′ N lat., 119°14.72′ W long.;

(12) 33°15.32′ N lat., 119°16.01′ W long.;

(13) 33°14.78′ N lat., 119°16.97′ W long.;

(14) 33°15.73′ N lat., 119°19.02′ W long.;

(15) 33°16.73′ N lat., 119°18.97′ W long.;

(16) 33°19.37′ N lat., 119°24.95′ W long.;

(17) 33°21.69′ N lat., 119°27.44′ W long.;

(18) 33°23.82′ N lat., 119°32.87′ W long.; and

(19) 33°33.22′ N lat., 119°46.7′ W long.

(x) The 150 fm (274 m) depth contour around Osborn Bank off the State of California is defined by straight lines connecting all of the following points in the order stated:

(1) 33°23.53′ N lat., 119°3.73′ W long.;

(2) 33°23.57′ N lat., 119°6.66′ W long.;

(3) 33°23.12′ N lat., 119°7.25′ W long.;

(4) 33°20.51′ N lat., 119°2.15′ W long.;

(5) 33°20.58′ N lat., 119°0.48′ W long.;

(6) 33°21.32′ N lat., 118°59.89′ W long.; and

(7) 33°23.53′ N lat., 119°3.73′ W long.

(y) The 150 fm (274 m) depth contour around the Eastern CCA area off the State of California is defined by straight lines connecting all of the following points in the order stated:

(1) 32°41.41′ N lat., 117°59.05′ W long.;

(2) 32°40.57′ N lat., 118°1.97′ W long.;

(3) 32°40.04′ N lat.,118°1.23′ W long.;

(4) 32°39.82′ N lat., 118°0.03′ W long.;

(5) 32°38.02′ N lat., 117°57.86′ W long.;

(6) 32°35.38′ N lat., 117°56.23′ W long.;

(7) 32°36.68′ N lat., 117°55.02′ W long.;

(8) 32°40.42′ N lat., 117°57.15′ W long.; and

(9) 32°41.41′ N lat., 117°59.05′ W long.

13. Amend § 660.78 by:

a. Redesignating paragraphs (p) through (r) as paragraphs (s) through (u);

b. Redesignating paragraph (o) as paragraph (q);

c. Redesignating paragraphs (f) through (n) as paragraphs (g) through (o);

d. Adding new paragraph (f);

e. Adding new paragraph (p); and

f. Adding new paragraph (r).

The revisions and additions read as follows:

§ 660.78 EFHCAs off the Coast of Oregon.

* * * * *

(f) Nehalem Bank East. The boundary of the Nehalem Bank East EFHCA is defined by straight lines connecting all of the following points in the order stated and connecting back to 45°47.95′ N lat., 124°31.70′ W long.:

(1) 45°47.95′ N lat., 124°31.70′ W long.;

(2) 45°52.28′ N lat., 124°38.46′ W long.;

(3) 45°56.45′ N lat., 124°38.00′ W long.;

(4) 45°58.33′ N lat., 124°38.75′ W long.;

(5) 46°00.83′ N lat., 124°36.78′ W long.;

(6) 45°59.94′ N lat., 124°34.63′ W long.;

(7) 45°58.90′ N lat., 124°33.47′ W long.;

(8) 45°54.27′ N lat., 124°30.73′ W long.;

(9) 45°53.62′ N lat., 124°30.83′ W long.;

(10) 45°52.90′ N lat., 124°30.67′ W long.;

(11) 45°52.03′ N lat., 124°30.60′ W long.;

(12) 45°51.75′ N lat., 124°30.85′ W long.; and

(13) 45°51.53′ N lat., 124°31.15′ W long.

* * * * *

(p) Arago Reef West. The boundary of the Arago Reef West EFHCA is defined by straight lines connecting all of the following points in the order stated and connecting back to 43°16.24′ N lat., 124°27.66′ W long.:

(1) 43°16.24′ N lat., 124°27.66′ W long.;

(2) 43°14.23′ N lat., 124°29.28′ W long.;

(3) 43°14.03′ N lat., 124°28.31′ W long.;

(4) 43°11.92′ N lat., 124°28.26′ W long.;

(5) 43°11.02′ N lat., 124°29.11′ W long.;

(6) 43°10.13′ N lat., 124°29.15′ W long.;

(7) 43°09.26′ N lat., 124°31.03′ W long.;

(8) 43°08.60′ N lat., 124°30.98′ W long.;

(9) 43°10.22′ N lat., 124°37.82′ W long.;

(10) 43°16.91′ N lat., 124°37.50′ W long.;

(11) 43°16.51′ N lat., 124°28.97′ W long.;

(12) 43°16.88′ N lat., 124°28.16′ W long.; and

(13) 43°16.24′ N lat., 124°27.66′ W long.

* * * * *

(r) Bandon High Spot East. The boundary of the Bandon High Spot East EFHCA is defined by straight lines connecting all of the following points in the order stated and connecting back to 42°57.18′ N lat., 124°46.01′ W long.:

(1) 42°57.18′ N lat., 124°46.01′ W long.;

(2) 42°56.10′ N lat., 124°47.48′ W long.;

(3) 42°56.66′ N lat., 124°48.79′ W long.;

(4) 42°55.02′ N lat., 124°50.45′ W long.;

(5) 42°55.70′ N lat., 124°52.79′ W long.;

(6) 43°03.91′ N lat., 124°50.81 W long.;

(7) 43°03.70′ N lat., 124°47.91′ W long.;

(8) 43°03.20′ N lat., 124°47.52′ W long.;

(9) 43°00.94′ N lat., 124°46.57′ W long.; and

(10) 42°57.18′ N lat., 124°46.01′ W long.

* * * * *

14. In § 660.79, revise paragraphs (yy) introductory text and (zz) introductory text to read as follows:

§ 660.79 EHFCAs off the Coast of California.

* * * * *

(yy) Potato Bank. The boundary of the Potato Bank EFHCA is defined by straight lines connecting all of the following points in the order stated and connecting back to 33°11.00′ N lat., 119°55.67′ W long.:

* * * * *

(zz) Cherry Bank. The Cherry Bank EFH Conservation Area is defined by straight lines connecting all of the following points in the order stated and connecting back to 32°59.00′ N lat., 119°32.05′ W long.:

* * * * *

Subpart D [Amended]

15. In subpart D of part 660, revise all references to “Cordell Banks” to read “Cordell Bank”.

Subpart E [Amended]

16. In subpart E of part 660, revise all references to “Cordell Banks” to read “Cordell Bank”.

17. In § 660.212, add paragraph (c)(3) to read as follows:

§ 660.212 Fixed gear fishery—prohibitions.

* * * * *

(c) * * *

(3) Fish inside the nontrawl RCA with any gear type other than those specified at § 660.230(b)(6). In addition, a vessel may not carry more than one gear type as specified at § 660.230(b)(6) on board while declared to fish inside the nontrawl RCA (see § 660.13(d)(4)(iv)(A) for valid declarations for use inside the nontrawl RCA).

* * * * *

18. Amend § 660.230 by:

a. Revising paragraph (a);

b. Adding paragraph (b)(6);

c. Revising paragraphs (d)(5) through (13); and

d. Adding new paragraphs (d)(14) through (17).

The additions and revisions read as follows:

§ 660.230 Fixed gear fishery—management measures.

(a) General. Most species taken in limited entry fixed gear (longline and pot/trap) fisheries will be managed with cumulative trip limits (see trip limits in Tables 2 (North) and 2 (South) of this subpart), size limits (see § 660.60(h)(5)), seasons (see trip limits in Tables 2 (North) and 2 (South) of this subpart and sablefish primary season details in § 660.231), gear restrictions (see paragraph (b) of this section), and closed areas (see paragraph (d) of this section and §§ 660.70 through 660.79). Cowcod retention is prohibited in all fisheries, and groundfish vessels operating south of Point Conception must adhere to GEA restrictions (see paragraph (d)(17) of this section and § 660.70). Yelloweye rockfish retention is prohibited in the limited entry fixed gear fisheries. Regulations governing tier limits for the limited entry, fixed gear sablefish primary season north of 36°N lat. are found in § 660.231. Vessels not participating in the sablefish primary season are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies, see § 660.230(e). The trip limits in Table 2 (North) and Table 2 (South) of this subpart apply to vessels participating in the limited entry groundfish fixed gear fishery and may not be exceeded.

(b) * * *

(6) Gear for use in the Nontrawl RCA. Inside the nontrawl RCA, only legal non-bottom contact hook-and-line gear configurations may be used for target fishing for groundfish by vessels that participate in the limited entry fixed gear sector as defined at § 660.11. On a fishing trip where any fishing will occur inside the nontrawl RCA, only one type of legal non-bottom contact gear may be carried on board, and no other fishing gear of any type may be carried on board or stowed during that trip. The vessel may fish inside and outside the nontrawl RCA on the same fishing trip, provided a valid declaration report as required at § 660.13(d) has been filed with NMFS OLE. Legal non-bottom contact hook-and-line gear means stationary vertical jig gear not anchored to the bottom and groundfish troll gear, subject to the specifications in paragraphs (b)(6)(i) and (ii) of this section.

(i) Stationary vertical jig gear. The following requirements apply to stationary vertical jig gear:

(A) Must be a minimum of 30 feet (9 m) between the bottom weight and the lowest fishing hook;

(B) No more than 4 vertical mainlines attached to or fished from the vessel (e.g., rod and reel) may be used in the water at one time with no more than 25 hooks on each mainline;

(C) No more than 100 hooks may be in the water at one time, with no more than 25 extra hooks on board the vessel.

(ii) Groundfish troll gear. The following requirements apply to groundfish troll gear:

(A) Must be a minimum of 50 feet (15 m) between the bottom weight and the troll wire's connection to the horizontal mainline;

(B) No more than one mainline attached to or fished form the vessel may be used in the water at one time;

(C) No more than 500 hooks may be in the water at one time, with no more than 25 extra hooks on board the vessel;

(D) Hooks must be spaced apart by a visible maker (e.g., floats, line wraps, colored line splices), with no more than 25 hooks between each marker and no more than 20 markers on the mainline; and

(E) Natural bait or weighted hooks may not be used nor be on board the vessel. Artificial lures and bait are permitted.

* * * * *

(d) * * *

(5) Tillamook YRCA. The latitude and longitude coordinates that define the Tillamook YRCA boundaries are specified at § 660.70, subpart C. Fishing with limited entry fixed gear is prohibited within the Tillamook YRCA on dates when the closure is in effect. It is unlawful to take and retain, possess, or land groundfish taken with limited entry fixed gear within the Tillamook YRCA on dates when the closure is in effect. The closure is not in effect at this time. This closure may be implemented through inseason adjustment. Limited entry fixed gear vessels may transit through the Tillamook YRCA at any time, with or without groundfish on board.

(6) Newport YRCA. The latitude and longitude coordinates that define the Newport YRCA boundaries are specified at § 660.70, subpart C. Fishing with limited entry fixed gear is prohibited within the Newport YRCA on dates when the closure is in effect. It is unlawful to take and retain, possess, or land groundfish taken with limited entry fixed gear within the Newport YRCA on dates when the closure is in effect. The closure is not in effect at this time. This closure may be implemented through inseason adjustment. Limited entry fixed gear vessels may transit through the Newport YRCA at any time, with or without groundfish on board.

(7) Florence YRCA. The latitude and longitude coordinates that define the Florence YRCA boundaries are specified at § 660.70, subpart C. Fishing with limited entry fixed gear is prohibited within the Florence YRCA on dates when the closure is in effect. It is unlawful to take and retain, possess, or land groundfish taken with limited entry fixed gear within the Florence YRCA on dates when the closure is in effect. The closure is not in effect at this time. This closure may be implemented through inseason adjustment. Limited entry fixed gear vessels may transit through the Florence YRCA at any time, with or without groundfish on board.

(8) Heceta Bank YRCA. The latitude and longitude coordinates that define the Heceta Bank YRCA boundaries are specified at § 660.70, subpart C. Fishing with limited entry fixed gear is prohibited within the Heceta Bank YRCA on dates when the closure is in effect. It is unlawful to take and retain, possess, or land groundfish taken with limited entry fixed gear within the Heceta Bank YRCA on dates when the closure is in effect. The closure is currently in effect. This closure may be modified through inseason adjustment. Limited entry fixed gear vessels may transit through the Heceta Bank YRCA at any time, with or without groundfish on board.

(9) Point St. George YRCA. The latitude and longitude coordinates of the Point St. George YRCA boundaries are specified at § 660.70, subpart C. Fishing with limited entry fixed gear is prohibited within the Point St. George YRCA, on dates when the closure is in effect. It is unlawful to take and retain, possess, or land groundfish taken with limited entry fixed gear within the Point St. George YRCA, on dates when the closure is in effect. The closure is not in effect at this time. This closure may be imposed through inseason adjustment. Limited entry fixed gear vessels may transit through the Point St. George YRCA, at any time, with or without groundfish on board.

(10) South Reef YRCA. The latitude and longitude coordinates of the South Reef YRCA boundaries are specified at § 660.70, subpart C. Fishing with limited entry fixed gear is prohibited within the South Reef YRCA, on dates when the closure is in effect. It is unlawful to take and retain, possess, or land groundfish taken with limited entry fixed gear within the South Reef YRCA, on dates when the closure is in effect. The closure is not in effect at this time. This closure may be imposed through inseason adjustment. Limited entry fixed gear vessels may transit through the South Reef YRCA, at any time, with or without groundfish on board.

(11) Reading Rock YRCA. The latitude and longitude coordinates of the Reading Rock YRCA boundaries are specified at § 660.70, subpart C. Fishing with limited entry fixed gear is prohibited within the Reading Rock YRCA, on dates when the closure is in effect. It is unlawful to take and retain, possess, or land groundfish taken with limited entry fixed gear within the Reading Rock YRCA, on dates when the closure is in effect. The closure is not in effect at this time. This closure may be imposed through inseason adjustment. Limited entry fixed gear vessels may transit through the Reading Rock YRCA, at any time, with or without groundfish on board.

(12) Point Delgada (North) YRCA. The latitude and longitude coordinates of the Point Delgada (North) YRCA boundaries are specified at § 660.70, subpart C. Fishing with limited entry fixed gear is prohibited within the Point Delgada (North) YRCA, on dates when the closure is in effect. It is unlawful to take and retain, possess, or land groundfish taken with limited entry fixed gear within the Point Delgada (North) YRCA, on dates when the closure is in effect. The closure is not in effect at this time. This closure may be imposed through inseason adjustment. Limited entry fixed gear vessels may transit through the Point Delgada (North) YRCA, at any time, with or without groundfish on board.

(13) Point Delgada (South) YRCA. The latitude and longitude coordinates of the Point Delgada (South) YRCA boundaries are specified at § 660.70, subpart C. Fishing with limited entry fixed gear is prohibited within the Point Delgada (South) YRCA, on dates when the closure is in effect. It is unlawful to take and retain, possess, or land groundfish taken with limited entry fixed gear within the Point Delgada (South) YRCA, on dates when the closure is in effect. The closure is not in effect at this time. This closure may be imposed through inseason adjustment. Limited entry fixed gear vessels may transit through the Point Delgada (South) YRCA, at any time, with or without groundfish on board.

(14) Nontrawl Rockfish Conservation Area (RCA). The nontrawl RCA is defined at § 660.11 and with latitude and longitude coordinates, at §§ 660.71 through 660.74 or the EEZ, where fishing for groundfish with nontrawl gear is prohibited. Boundaries for the nontrawl RCA throughout the year are provided in the header to Table 2 (North) and Table 2 (South) of this subpart and may be modified by NMFS inseason pursuant to § 660.60(c).

(i) It is unlawful to operate a vessel with limited entry nontrawl gear in the nontrawl RCA, except for the purpose of continuous transit, or when the use of limited entry nontrawl gear is authorized in this section. It is unlawful to take and retain, possess, or land groundfish taken with limited entry nontrawl gear within the nontrawl RCA, unless otherwise authorized in this section.

(ii) Limited entry nontrawl vessels may transit through the nontrawl RCA, with or without groundfish on board, provided all groundfish nontrawl gear is stowed either: Below deck; or if the gear cannot readily be moved, in a secured and covered manner, detached from all lines, so that it is rendered unusable for fishing.

(iii) The nontrawl RCA restrictions in this section apply to vessels registered to limited entry fixed gear permits fishing for species other than groundfish with nontrawl gear on trips where groundfish species are retained. Unless otherwise authorized in this section, a vessel may not retain any groundfish taken on a fishing trip for species other than groundfish that occurs within the nontrawl RCA. If a vessel fishes in a non-groundfish fishery in the nontrawl RCA, it may not participate in any fishing for groundfish on that trip that is prohibited within the nontrawl RCA. [For example, if a vessel fishes in the salmon troll fishery within the RCA, the vessel cannot on the same trip fish in the sablefish fishery outside of the RCA.]

(iv) It is lawful to fish within the nontrawl RCA with limited entry fixed gear using hook and line gear only when trip limits authorize such fishing, and provided a valid declaration report as required at § 660.13(d), subpart C, has been filed with NMFS OLE.

(v) It is lawful to fish within the nontrawl RCA under the limited entry fixed gear trip limits specified in Table 2 (North) and Table 2 (South) of this subpart only when using the non-bottom contact hook-and-line gear types described at § 660.230(b)(6), and provided a valid declaration report as required at § 660.13(d), subpart C, has been filed with NMFS OLE.

(15) Farallon Islands. Under California law, commercial fishing for all groundfish is prohibited between the shoreline and the 10 fm (18 m) depth contour around the Farallon Islands. An exception to this prohibition is that commercial fishing for “other flatfish” is allowed around the Farallon Islands using hook and line gear only. (See Table 2 (South) of this subpart.) For a definition of the Farallon Islands, see § 660.70, subpart C.

(16) Cordell Bank. Commercial fishing for groundfish is prohibited in waters of depths less than 100 fm (183 m) around Cordell Bank, as defined by specific latitude and longitude coordinates at § 660.70, subpart C. An exception to this prohibition is that commercial fishing for “other flatfish” is allowed around Cordell Bank using hook and line gear only.

(17) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. All fishing gear for targeting groundfish must be stowed while transiting through a GEA. If fishing for non-groundfish species within a GEA, then no groundfish may be on board the vessel.

* * * * *

19. In § 660 Subpart E, revise Table 2 North and Table 2 South to read as follows:

BILLING CODE 3510-22-P

BILLING CODE 3510-22-C

Subpart F [Amended]

20. In subpart F of part 660, revise all references to “Cordell Banks” to read “Cordell Bank”.

21. In § 660.312, revise paragraph (d)(7) and add paragraph (d)(8) to read as follows:

§ 660.312 Open access fishery—prohibitions.

* * * * *

(d) * * *

(7) Fish with bottom trawl gear (defined at § 660.11), other than demersal seine, unless otherwise specified in this section or § 660.330, within the EEZ in the following EFHCAs (defined at § 660.79): Brush Patch, Trinidad Canyon, Mad River Rough Patch, Samoa Deepwater, Eel River Canyon, Blunts Reef, Mendocino Ridge, Delgada Canyon, Tolo Bank, Navarro Canyon, Point Arena North, Point Arena South Biogenic Area, the Football, Gobbler's Knob, Point Reyes Reef, Cordell Bank/Biogenic Area, Rittenburg Bank, Farallon Islands/Fanny Shoal/Cochrane Bank, Farallon Escarpment, Half Moon Bay, Pescadero Reef, Pigeon Point Reef, Ascension Canyonhead, South of Davenport, Monterey Bay/Canyon, West of Sobranes Point, Point Sur Deep, Big Sur Coast/Port San Luis, La Cruz Canyon, West of Piedras Blancas State Marine Conservation Area, East San Lucia Bank, Point Conception, Hidden Reef/Kidney Bank, Catalina Island, Potato Bank, Cherry Bank, Cowcod EFHCA East, and Southern California Bight.

(8) Fish inside the nontrawl RCA with any gear type other than those specified at § 660.330(b)(3). In addition, a vessel may not carry more than one gear type as specified at § 660.330(b)(3) on board while declared to fish inside the nontrawl RCA (see § 660.13(d)(4)(iv)(A) for valid declarations for use inside the nontrawl RCA).

22. Amend § 660.330 by:

a. Revising paragraph (a);

b. Revising paragraph (b)(3) introductory text;

c. Revising paragraphs (b)(3)(i)(A) and (B);

d. Removing paragraph (b)(3)(i)(D);

e. Revising paragraph (b)(3)(ii)(B);

f. Revising paragraphs (d)(5) through (15); and

g. Adding new paragraphs (d)(16) through (19).

The revisions and additions read as follows:

§ 660.330 Open access fishery—management measures.

(a) General. Groundfish species taken in open access fisheries will be managed with cumulative trip limits (see trip limits in Tables 3 (North) and 3 (South) of this subpart), size limits (see § 660.60(h)(5)), seasons (see seasons in Tables 3 (North) and 3 (South) of this subpart), gear restrictions (see paragraph (b) of this section), and closed areas (see paragraph (d) of this section and §§ 660.70 through 660.79). Unless otherwise specified, a vessel operating in the open access fishery is subject to, and must not exceed any trip limit, frequency limit, and/or size limit for the open access fishery. Cowcod retention is prohibited in all fisheries, and groundfish vessels operating south of Point Conception must adhere to GEA restrictions (see paragraph (d)(15) of this section and § 660.70). Retention of yelloweye rockfish is prohibited in all open access fisheries. For information on the open access daily/weekly trip limit fishery for sablefish, see § 660.332 of this subpart and the trip limits in Tables 3 (North) and 3 (South) of this subpart. Open access vessels are subject to daily or weekly sablefish limits in addition to cumulative limits for each cumulative limit period. Only one sablefish landing per week may be made in excess of the daily trip limit and, if the vessel chooses to make a landing in excess of that daily trip limit, then that is the only sablefish landing permitted for that week. The trip limit for black rockfish caught with hook-and-line gear also applies (see paragraph I of this section). Open access vessels that fish with non-groundfish trawl gear or in the salmon troll fishery north of 40°10′ N lat. are subject the cumulative limits and closed areas (except the pink shrimp fishery which is not subject to RCA restrictions) listed in Tables 3 (North) and 3 (South) of this subpart.

(b) * * *

(3) Gear for use inside the Nontrawl RCA. Inside the nontrawl RCA, only legal non-bottom contact hook-and-line gear configurations may be used for target fishing for groundfish by vessels that participate in the open access sector as defined at § 660.11. On a fishing trip where any fishing will occur inside the nontrawl RCA, only one type of legal non-bottom contact gear may be carried on board, and no other fishing gear of any type may be carried on board or stowed during that trip. The vessel may fish inside and outside the nontrawl RCA on the same fishing trip, provided a valid declaration report as required at § 660.13(d) has been filed with NMFS OLE. Legal non-bottom contact hook-and-line gear means stationary vertical jig gear not anchored to the bottom and groundfish troll gear, subject to the specifications in paragraphs (b)(6)(i) and (ii) of this section.

(i) * * *

(A) Must be a minimum of 30 feet (9 m) between the bottom weight and the lowest fishing hook;

(B) No more than 4 vertical mainlines attached to or fished from the vessel (e.g., rod & reel) may be used in the water at one time with no more than 25 hooks on each mainline;

* * * * *

(ii) * * *

(B) No more than one mainline attached to or fished from the vessel may be used in the water at one time;

* * * * *

(d) * * *

(5) Tillamook YRCA. The latitude and longitude coordinates of the Tillamook YRCA boundaries are specified at § 660.70, subpart C. Fishing with open access gear is prohibited within the Tillamook YRCA, on dates when the closure is in effect. It is unlawful to take and retain, possess, or land groundfish taken with open access gear within the Tillamook YRCA, on dates when the closure is in effect. The closure is not in effect at this time. This closure may be imposed through inseason adjustment. Open access vessels may transit through the Tillamook YRCA, at any time, with or without groundfish on board.

(6) Newport YRCA. The latitude and longitude coordinates of the Newport YRCA boundaries are specified at § 660.70, subpart C. Fishing with open access gear is prohibited within the Newport YRCA, on dates when the closure is in effect. It is unlawful to take and retain, possess, or land groundfish taken with open access gear within the Newport YRCA, on dates when the closure is in effect. The closure is not in effect at this time. This closure may be imposed through inseason adjustment. Open access vessels may transit through the Newport YRCA, at any time, with or without groundfish on board.

(7) Florence YRCA. The latitude and longitude coordinates of the Florence YRCA boundaries are specified at § 660.70, subpart C. Fishing with open access gear is prohibited within the Florence YRCA, on dates when the closure is in effect. It is unlawful to take and retain, possess, or land groundfish taken with open access gear within the Florence YRCA, on dates when the closure is in effect. The closure is not in effect at this time. This closure may be imposed through inseason adjustment. Open access vessels may transit through the Florence YRCA, at any time, with or without groundfish on board.

(8) Heceta Bank YRCA. The latitude and longitude coordinates of the Heceta Bank YRCA boundaries are specified at § 660.70, subpart C. Fishing with open access gear is prohibited within the Heceta Bank YRCA, on dates when the closure is in effect. It is unlawful to take and retain, possess, or land groundfish taken with open access gear within the Heceta Bank YRCA, on dates when the closure is in effect. The closure is in effect at this time. This closure may be imposed through inseason adjustment. Open access vessels may transit through the Heceta Bank YRCA, at any time, with or without groundfish on board.

(9) Point St. George YRCA. The latitude and longitude coordinates of the Point St. George YRCA boundaries are specified at § 660.70, subpart C. Fishing with open access gear is prohibited within the Point St. George YRCA, on dates when the closure is in effect. It is unlawful to take and retain, possess, or land groundfish taken with open access gear within the Point St. George YRCA, on dates when the closure is in effect. The closure is not in effect at this time. This closure may be imposed through inseason adjustment. Open access vessels may transit through the Point St. George YRCA, at any time, with or without groundfish on board.

(10) South Reef YRCA. The latitude and longitude coordinates of the South Reef YRCA boundaries are specified at § 660.70, subpart C. Fishing with open access gear is prohibited within the South Reef YRCA, on dates when the closure is in effect. It is unlawful to take and retain, possess, or land groundfish taken with open access gear within the South Reef YRCA, on dates when the closure is in effect. The closure is not in effect at this time. This closure may be imposed through inseason adjustment. Open access gear vessels may transit through the South Reef YRCA, at any time, with or without groundfish on board.

(11) Reading Rock YRCA. The latitude and longitude coordinates of the Reading Rock YRCA boundaries are specified at § 660.70, subpart C. Fishing with open access gear is prohibited within the Reading Rock YRCA, on dates when the closure is in effect. It is unlawful to take and retain, possess, or land groundfish taken with open access gear within the Reading Rock YRCA, on dates when the closure is in effect. The closure is not in effect at this time. This closure may be imposed through inseason adjustment. Open access gear vessels may transit through the Reading Rock YRCA, at any time, with or without groundfish on board.

(12) Point Delgada (North) YRCA. The latitude and longitude coordinates of the Point Delgada (North) YRCA boundaries are specified at § 660.70, subpart C. Fishing with open access gear is prohibited within the Point Delgada (North) YRCA, on dates when the closure is in effect. It is unlawful to take and retain, possess, or land groundfish taken with open access gear within the Point Delgada (North) YRCA, on dates when the closure is in effect. The closure is not in effect at this time. This closure may be imposed through inseason adjustment. Open access gear vessels may transit through the Point Delgada (North) YRCA, at any time, with or without groundfish on board.

(13) Point Delgada (South) YRCA. The latitude and longitude coordinates of the Point Delgada (South) YRCA boundaries are specified at § 660.70, subpart C. Fishing with open access gear is prohibited within the Point Delgada (South) YRCA, on dates when the closure is in effect. It is unlawful to take and retain, possess, or land groundfish taken with open access gear within the Point Delgada (South) YRCA, on dates when the closure is in effect. The closure is not in effect at this time. This closure may be imposed through inseason adjustment. Open access gear vessels may transit through the Point Delgada (South) YRCA, at any time, with or without groundfish on board.

(14) Salmon Troll Yelloweye Rockfish Conservation Area (YRCA). The latitude and longitude coordinates of the Salmon Troll YRCA boundaries are specified in the groundfish regulations at § 660.70, subpart C, and in the salmon regulations at § 660.405. Fishing with salmon troll gear is prohibited within the Salmon Troll YRCA. It is unlawful for commercial salmon troll vessels to take and retain, possess, or land fish taken with salmon troll gear within the Salmon Troll YRCA. Open access vessels may transit through the Salmon Troll YRCA with or without fish on board.

(15) Nontrawl rockfish conservation area for the open access fisheries. The nontrawl RCA is defined at § 660.11 and with latitude and longitude coordinates, at §§ 660.70 through 660.74 or the EEZ, where fishing for groundfish with nontrawl gear is prohibited. Boundaries for the nontrawl RCA throughout the year are provided in the header to Table 3 (North) and Table 3 (South) of this subpart and may be modified by NMFS inseason pursuant to § 660.60(c).

(i) It is unlawful to operate a vessel in the nontrawl RCA that has nontrawl gear onboard and is not registered to a limited entry permit on a trip in which the vessel is used to take and retain or possess groundfish in the EEZ, or land groundfish taken in the EEZ, except for the purpose of continuous transiting, or when the use of nontrawl gear is authorized in part 660.

(ii) On any trip on which a groundfish species is taken with nontrawl open access gear and retained, the open access nontrawl vessel may transit through the nontrawl RCA only if all groundfish nontrawl gear is stowed either: Below deck; or if the gear cannot readily be moved, in a secured and covered manner, detached from all lines, so that it is rendered unusable for fishing.

(iii) The nontrawl RCA restrictions in this section apply to vessels taking and retaining or possessing groundfish in the EEZ, or landing groundfish taken in the EEZ. Unless otherwise authorized by part 660, a vessel may not retain any groundfish taken on a fishing trip for species other than groundfish that occurs within the nontrawl RCA. If a vessel fishes in a non-groundfish fishery in the nontrawl RCA, it may not participate in any fishing for groundfish on that trip that is prohibited within the nontrawl RCA. [For example, if a vessel fishes in the salmon troll fishery within the RCA, the vessel cannot on the same trip fish in the sablefish fishery outside of the RCA.]

(iv) Fishing for “other flatfish” off California (between 42° N lat. south to the U.S./Mexico border) is allowed within the nontrawl RCA with hook and line gear only; and provided a valid declaration report as required at § 660.13(d), has been filed with NMFS OLE.

(v) Target fishing for groundfish off Oregon and California (between 46°16′ N lat. and the U.S./Mexico border) is allowed within the nontrawl RCA for vessels participating in the directed open access sector as defined at § 660.11, subject to the gear restrictions at § 660.330(b)(3)(i-ii), and provided a valid declaration report as required at § 660.13(d) has been filed with NMFS OLE.

(16) Non-groundfish trawl rockfish conservation areas for the open access non-groundfish trawl fisheries. The non-groundfish trawl RCAs are closed areas, defined by specific latitude and longitude coordinates (specified at §§ 660.70 through 660.74, subpart C) designed to approximate specific depth contours, where fishing for groundfish with nontrawl gear is prohibited. Boundaries for the nontrawl RCA throughout the year are provided in the open access trip limit tables, Table 3 (North) and Table 3 (South) of this subpart and may be modified by NMFS in season pursuant to § 660.60(c).

(i) It is unlawful to operate a vessel in the non-groundfish trawl RCA with non-groundfish trawl gear onboard, except for the purpose of continuous transiting, or when the use of trawl gear is authorized in part 660. It is unlawful to take and retain, possess, or land groundfish taken with non-groundfish trawl gear within the nontrawl RCA, unless otherwise authorized in part 660.

(ii) Non-groundfish trawl vessels may transit through the non-groundfish trawl RCA, with or without groundfish on board, provided all non-groundfish trawl gear is stowed either: Below deck; or if the gear cannot readily be moved, in a secured and covered manner, detached from all towing lines, so that it is rendered unusable for fishing; or remaining on deck uncovered if the trawl doors are hung from their stanchions and the net is disconnected from the doors.

(iii) The non-groundfish trawl RCA restrictions in this section apply to vessels taking and retaining or possessing groundfish in the EEZ, or landing groundfish taken in the EEZ. Unless otherwise authorized by part 660, it is unlawful for a vessel to retain any groundfish taken on a fishing trip for species other than groundfish that occurs within the non-groundfish trawl RCA. If a vessel fishes in a non-groundfish fishery in the non-groundfish trawl RCA, it may not participate in any fishing on that trip that is prohibited within the non-groundfish trawl RCA. Nothing in these Federal regulations supersedes any state regulations that may prohibit trawling shoreward of the fishery management area (3-200 nm).

(iv) It is lawful to fish with non-groundfish trawl gear within the non-groundfish trawl RCA only under the following conditions:

(A) Pink shrimp trawling is permitted in the non-groundfish trawl RCA when a valid declaration report as required at § 660.12(d), subpart C, has been filed with NMFS OLE. Groundfish caught with pink shrimp trawl gear may be retained anywhere in the EEZ and are subject to the limits in Table 3 (North) and Table 3 (South) of this subpart.

(B) When the shoreward line of the trawl RCA is shallower than 100 fm (183 m), vessels using ridgeback prawn trawl gear south of 34°27.00′ N lat. may operate out to the 100 fm (183 m) boundary line specified at § 660.73, when a valid declaration report as required at § 660.13(d), has been filed with NMFS OLE. Groundfish caught with ridgeback prawn trawl gear are subject to the limits in Table 3 (North) and Table 3 (South) of this subpart.

(17) Farallon Islands. Under California law, commercial fishing for all groundfish is prohibited between the shoreline and the 10 fm (18 m) depth contour around the Farallon Islands. An exception to this prohibition is that commercial fishing for “other flatfish” is allowed around the Farallon Islands using hook and line gear only. (See Table 3 (South) of this subpart). For a definition of the Farallon Islands, see § 660.70, subpart C.

(18) Cordell Bank. Commercial fishing for groundfish is prohibited in waters of depths less than 100-fm (183-m) around Cordell Bank, as defined by specific latitude and longitude coordinates at § 660.70, subpart C. An exception to this prohibition is that commercial fishing for “other flatfish” is allowed around Cordell Bank using hook and line gear only.

(19) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. All fishing gear for targeting groundfish must be stowed while transiting through a GEA. If fishing for non-groundfish species within a GEA, then no groundfish may be on board the vessel.

* * * * *

23. In § 660 Subpart F, revise Table 3 North and Table 3 South to read as follows:

Section 660 Subpart F Table 3 North and Table 3 South

BILLING CODE 3510-22-P

Subpart G [Amended]

24. In subpart G of part 660, revise all references to “Cordell Banks” to read “Cordell Bank”.

25. Amend § 660.360 by revising paragraphs (c)(3)(i)(B) and (c)(3)(iv)(A) to read as follows:

§ 660.360 Recreational fishery—management measures.

* * * * *

(c) * * *

(3) * * *

(i) * * *

(B) Groundfish exclusion areas (GEAs). The GEAs are closed areas in the Southern California Bight, defined by specific latitude and longitude coordinates (specified at § 660.70) where commercial and recreational fishing for groundfish is prohibited. It is unlawful to fish for, take and retain, possess (except for the purpose of continuous transit) or land groundfish within the GEAs. Recreational fishing gear for targeting groundfish may not be deployed while transiting through a GEA. If fishing for non-groundfish species within a GEA, then no groundfish may be on board the vessel.

* * * * *

(iv) * * *

(A) Seasons. Recreational fishing for “Other Flatfish,” petrale sole, and starry flounder is open from January 1 through December 31. When recreational fishing for “Other Flatfish,” petrale sole, and starry flounder is open, it is permitted both outside and within the recreational RCAs described in paragraph (c)(3)(i) of this section.

* * * * *

[FR Doc. 2023-25905 Filed 11-30-23; 8:45 am]

BILLING CODE 3510-22-C